DEPARTMENT OF COMMERCE

National Oceanic and Atmospheric Administration

50 CFR Part 229

[Docket No. 121024581-3714-02]

RIN 0648-BC71

List of Fisheries for 2013

AGENCY: National Marine Fisheries Service (NMFS), National Oceanic and Atmospheric Administration (NOAA), Commerce.

ACTION: Final rule.

SUMMARY: The National Marine Fisheries Service (NMFS) publishes its final List of Fisheries (LOF) for 2013, as required by the Marine Mammal Protection Act (MMPA). The final LOF for 2013 reflects new information on interactions between commercial fisheries and marine mammals. NMFS must classify each commercial fishery on the LOF into one of three categories under the MMPA based upon the level of serious injury and mortality of marine mammals that occurs incidental to each fishery. The classification of a fishery on the LOF determines whether participants in that fishery are subject to certain provisions of the MMPA, such as registration, observer coverage, and take reduction plan (TRP) requirements. The fishery classifications and list of marine mammal stocks incidentally injured or killed described in the Final LOF for 2012 remain in effect until the effective date of the Final LOF for 2013.

DATES: This final rule is effective September 29, 2013.

ADDRESSES: Comments regarding the burden-hour estimates, or any other aspect of the collection of information requirements contained in this rule, should be submitted in writing to Chief, Marine Mammal and Sea Turtle Conservation Division, Office of Protected Resources, NMFS, 1315 East-West Highway, Silver Spring, MD 20910, or to Stuart Levenback, OMB, by email to Stuart_Levenbach@omb.eop.gov.

FOR FURTHER INFORMATION CONTACT: Lisa White, Office of Protected Resources, 301-427-8494; Allison Rosner, Northeast Region, 978-281-9328; Jessica Powell, Southeast Region, 727-824-5312; Elizabeth Petras, Southwest Region, 562-980-3238; Brent Norberg, Northwest Region, 206-526-6550; Bridget Mansfield, Alaska Region, 907-586-7642; Nancy Young, Pacific Islands Region, 808-944-2282. Individuals who use a telecommunications device for the hearing impaired may call the Federal Information Relay Service at 1-800-877-8339 between 8 a.m. and 4 p.m. Eastern time, Monday through Friday, excluding Federal holidays.

SUPPLEMENTARY INFORMATION:

What is the list of fisheries?

Section 118 of the MMPA requires NMFS to place all U.S. commercial fisheries into one of three categories based on the level of incidental serious injury and mortality of marine mammals occurring in each fishery (16 U.S.C. 1387(c)(1)). The classification of a fishery on the LOF determines whether participants in that fishery may be required to comply with certain provisions of the MMPA, such as registration, observer coverage, and take reduction plan requirements. NMFS must reexamine the LOF annually, considering new information in the Marine Mammal Stock Assessment Reports (SARs) and other relevant sources, and publish in the Federal Register any necessary changes to the LOF after notice and opportunity for public comment (16 U.S.C. 1387(c)(1)(C)).

How does NMFS determine in which category a fishery is placed?

The definitions for the fishery classification criteria can be found in the implementing regulations for section 118 of the MMPA (50 CFR 229.2). The criteria are also summarized here.

Fishery Classification Criteria

The fishery classification criteria consist of a two-tiered, stock-specific approach that first addresses the total impact of all fisheries on each marine mammal stock and then addresses the impact of individual fisheries on each stock. This approach is based on consideration of the rate, in numbers of animals per year, of incidental mortalities and serious injuries of marine mammals due to commercial fishing operations relative to the potential biological removal (PBR) level for each marine mammal stock. The MMPA (16 U.S.C. 1362(20)) defines the PBR level as the maximum number of animals, not including natural mortalities, that may be removed from a marine mammal stock while allowing that stock to reach or maintain its optimum sustainable population. This definition can also be found in the implementing regulations for section 118 of the MMPA (50 CFR 229.2).

Tier 1: If the total annual mortality and serious injury of a marine mammal stock, across all fisheries, is less than or equal to 10 percent of the PBR level of the stock, all fisheries interacting with the stock would be placed in Category III (unless those fisheries interact with other stock(s) in which total annual mortality and serious injury is greater than 10 percent of PBR). Otherwise, these fisheries are subject to the next tier (Tier 2) of analysis to determine their classification.

Tier 2, Category I: Annual mortality and serious injury of a stock in a given fishery is greater than or equal to 50 percent of the PBR level (i.e., frequent incidental mortality and serious injuries of marine mammals).

Tier 2, Category II: Annual mortality and serious injury of a stock in a given fishery is greater than 1 percent and less than 50 percent of the PBR level (i.e., occasional incidental mortality and serious injuries of marine mammals).

Tier 2, Category III: Annual mortality and serious injury of a stock in a given fishery is less than or equal to 1 percent of the PBR level (i.e., a remote likelihood or no known incidental mortality and serious injuries of marine mammals).

While Tier 1 considers the cumulative fishery mortality and serious injury for a particular stock, Tier 2 considers fishery-specific mortality and serious injury for a particular stock. Additional details regarding how the categories were determined are provided in the preamble to the final rule implementing section 118 of the MMPA (60 FR 45086, August 30, 1995).

Because fisheries are classified on a per-stock basis, a fishery may qualify as one Category for one marine mammal stock and another Category for a different marine mammal stock. A fishery is typically classified on the LOF at its highest level of classification (e.g., a fishery qualifying for Category III for one marine mammal stock and for Category II for another marine mammal stock will be listed under Category II).

Other Criteria That May Be Considered

There are several fisheries on the LOF classified as Category II that have no recent documented injuries or mortalities of marine mammals, or fisheries that did not result in a serious injury or mortality rate greater than 1 percent of a stock's PBR level based on known interactions. NMFS has classified these fisheries by analogy to other Category I or II fisheries that use similar fishing techniques or gear that are known to cause mortality or serious injury of marine mammals, or according to factors discussed in the final LOF for 1996 (60 FR 67063, December 28, 1995) and listed in the regulatory definition of a Category II fishery, “In the absence of reliable information indicating the frequency of incidental mortality and serious injury of marine mammals by a commercial fishery, NMFS will determine whether the incidental serious injury or mortality is “frequent,” “occasional,” or “remote” by evaluating other factors such as fishing techniques, gear used, methods used to deter marine mammals, target species, seasons and areas fished, qualitative data from logbooks or fisher reports, stranding data, and the species and distribution of marine mammals in the area, or at the discretion of the Assistant Administrator for Fisheries” (50 CFR 229.2).

Further, eligible commercial fisheries not specifically identified on the LOF are deemed to be Category II fisheries until the next LOF is published (50 CFR 229.2).

How does NMFS determine which species or stocks are included as incidentally killed or injured in a fishery?

The LOF includes a list of marine mammal species or stocks incidentally killed or injured in each commercial fishery. To determine which species or stocks are included as incidentally killed or injured in a fishery, NMFS annually reviews the information presented in the current SARs. The SARs are based upon the best available scientific information and provide the most current and inclusive information on each stock's PBR level and level of interaction with commercial fishing operations. NMFS also reviews other sources of new information, including observer data, stranding data, and fisher self-reports.

In the absence of reliable information on the level of mortality or injury of a marine mammal stock, or insufficient observer data, NMFS will determine whether a species or stock should be added to, or deleted from, the list by considering other factors such as: Changes in gear used, increases or decreases in fishing effort, increases or decreases in the level of observer coverage, and/or changes in fishery management that are expected to lead to decreases in interactions with a given marine mammal stock (such as a TRP or a fishery management plan (FMP)). In these instances, NMFS will provide case-specific justification in the LOF for changes to the list of species or stocks incidentally killed or injured.

How does NMFS determine the levels of observer coverage in a fishery on the LOF?

Data obtained from the observer program and observer coverage levels are important tools in estimating the level of marine mammal mortality and serious injury in commercial fishing operations. The best available information on the level of observer coverage and the spatial and temporal distribution of observed marine mammal interactions is presented in the SARs. Starting with the 2005 SARs, each SAR includes an appendix with detailed descriptions of each Category I and II fishery on the LOF, including observer coverage in those fisheries. The SARs generally do not provide detailed information on observer coverage in Category III fisheries because, under the MMPA, Category III fisheries are not required to accommodate observers aboard vessels due to the remote likelihood of mortality and serious injury of marine mammals. Fishery information presented in the SARs' appendices may include: Level of observer coverage, target species, levels of fishing effort, spatial and temporal distribution of fishing effort, characteristics of fishing gear and operations, management and regulations, and interactions with marine mammals. Copies of the SARs are available on the NMFS Office of Protected Resources Web site at: http://www.nmfs.noaa.gov/pr/sars/. Information on observer coverage levels in Category I and II fisheries can also be found in the Category I and II fishery fact sheets on the NMFS Office of Protected Resources Web site: http://www.nmfs.noaa.gov/pr/interactions/lof/. Additional information on observer programs in commercial fisheries can be found on the NMFS National Observer Program's Web site: http://www.st.nmfs.gov/st4/nop/.

How do I find out if a specific fishery is in Category I, II, or III?

This rule includes three tables that list all U.S. commercial fisheries by LOF Category. Table 1 lists all of the commercial fisheries in the Pacific Ocean (including Alaska); Table 2 lists all of the commercial fisheries in the Atlantic Ocean, Gulf of Mexico, and Caribbean; and Table 3 lists all U.S.-authorized commercial fisheries on the high seas. A fourth table, Table 4, lists all commercial fisheries managed under applicable TRPs or take reduction teams (TRT).

Are high seas fisheries included on the LOF?

Beginning with the 2009 LOF, NMFS includes high seas fisheries in Table 3 of the LOF, along with the number of valid High Seas Fishing Compliance Act (HSFCA) permits in each fishery. As of 2004, NMFS issues HSFCA permits only for high seas fisheries analyzed in accordance with the National Environmental Policy Act (NEPA) and the Endangered Species Act (ESA). The authorized high seas fisheries are broad in scope and encompass multiple specific fisheries identified by gear type. For the purposes of the LOF, the high seas fisheries are subdivided based on gear type (e.g., trawl, longline, purse seine, gillnet, troll, etc.) to provide more detail on composition of effort within these fisheries. Many fisheries operate in both U.S. waters and on the high seas, creating some overlap between the fisheries listed in Tables 1 and 2 and those in Table 3. In these cases, the high seas component of the fishery is not considered a separate fishery, but an extension of a fishery operating within U.S. waters (listed in Table 1 or 2). NMFS designates those fisheries in Tables 1, 2, and 3 by a “*” after the fishery's name. The number of HSFCA permits listed in Table 3 for the high seas components of these fisheries operating in U.S. waters does not necessarily represent additional effort that is not accounted for in Tables 1 and 2. Many vessels/participants holding HSFCA permits also fish within U.S. waters and are included in the number of vessels and participants operating within those fisheries in Tables 1 and 2.

HSFCA permits are valid for five years, during which time FMPs can change. Therefore, some vessels/participants may possess valid HSFCA permits without the ability to fish under the permit because it was issued for a gear type that is no longer authorized under the most current FMP. For this reason, the number of HSFCA permits displayed in Table 3 is likely higher than the actual U.S. fishing effort on the high seas. For more information on how NMFS classifies high seas fisheries on the LOF, see the preamble text in the final 2009 LOF (73 FR 73032; December 1, 2008).

Where can I find specific information on fisheries listed on the LOF?

Starting with the 2010 LOF, NMFS developed summary documents, or fishery fact sheets, for each Category I and II fishery on the LOF. These fishery fact sheets provide the full history of each Category I and II fishery, including: When the fishery was added to the LOF, the basis for the fishery's initial classification, classification changes to the fishery, changes to the list of species or stocks incidentally killed or injured in the fishery, fishery gear and methods used, observer coverage levels, fishery management and regulation, and applicable TRPs or TRTs, if any. These fishery fact sheets are updated after each final LOF and can be found under “How Do I Find Out if a Specific Fishery is in Category I, II, or III?” on the NMFS Office of Protected Resources' Web site: http://www.nmfs.noaa.gov/pr/interactions/lof/, linked to the “List of Fisheries by Year” table. NMFS plans to develop similar fishery fact sheets for each Category III fishery on the LOF. However, due to the large number of Category III fisheries on the LOF and the lack of accessible and detailed information on many of these fisheries, the development of these fishery fact sheets will take significant time to complete. NMFS anticipates posting Category III fishery fact sheets along with the final 2015 LOF, although this timeline may be revised as this effort progresses.

Am I required to register under the MMPA?

Owners of vessels or gear engaging in a Category I or II fishery are required under the MMPA (16 U.S.C. 1387(c)(2)), as described in 50 CFR 229.4, to register with NMFS and obtain a marine mammal authorization to lawfully take non-endangered and non-threatened marine mammals incidental to commercial fishing operations. Owners of vessels or gear engaged in a Category III fishery are not required to register with NMFS or obtain a marine mammal authorization.

How do I register and receive my authorization certificate and injury/mortality reporting forms?

NMFS has integrated the MMPA registration process, implemented through the Marine Mammal Authorization Program (MMAP), with existing state and Federal fishery license, registration, or permit systems for Category I and II fisheries on the LOF. Participants in these fisheries are automatically registered under the MMAP and are not required to submit registration or renewal materials directly under the MMAP. In the Pacific Islands, Southwest, Northwest, and Alaska regions, NMFS will issue vessel or gear owners an authorization certificate and/or injury/mortality reporting forms via U.S. mail or with their state or Federal license at the time of renewal. In the Northeast region, NMFS will issue vessel or gear owners an authorization certificate via U.S. mail automatically at the beginning of each calendar year, but vessel or gear owners must request or print injury/mortality reporting forms by contacting the NMFS Northeast Regional Office at 978-281-9328 or by visiting the Northeast Regional Office Web site (http://www.nero.noaa.gov/mmap). In the Southeast region, NMFS will issue vessel or gear owners notification of registry and vessel or gear owners may receive their authorization certificate and/or injury/mortality reporting form by contacting the Southeast Regional Office at 727-209-5952 or by visiting the Southeast Regional Office Web site (http://sero.nmfs.noaa.gov/pr/mm/mmap.htm) and following the instructions for printing the necessary documents.

The authorization certificate, or a copy, must be on board the vessel while it is operating in a Category I or II fishery, or for non-vessel fisheries, in the possession of the person in charge of the fishing operation (50 CFR 229.4(e)). Although efforts are made to limit the issuance of authorization certificates to only those vessel or gear owners that participate in Category I or II fisheries, not all state and Federal permit systems distinguish between fisheries as classified by the LOF. Therefore, some vessel or gear owners in Category III fisheries may receive authorization certificates even though they are not required for Category III fisheries. Individuals fishing in Category I and II fisheries for which no state or Federal permit is required must register with NMFS by contacting their appropriate Regional Office (see ADDRESSES).

How do I renew my registration under the MMAP?

In Southwest, Alaska, and Northeast regional fisheries, registrations of vessel or gear owners are automatically renewed and participants should receive an authorization certificate by January 1 of each new year. In Pacific Islands regional fisheries, vessel or gear owners should receive an authorization certificate by January 1 for state fisheries and with their permit renewal for federal fisheries. In Northwest regional fisheries, vessel or gear owners receive authorization with each renewed state fishing license, the timing of which varies based on target species. Vessel or gear owners who participate in these regions and have not received authorization certificates by January 1 or with renewed fishing licenses must contact the appropriate NMFS Regional Office (see ADDRESSES).

In Southeast regional fisheries, vessel or gear owners' registrations are automatically renewed and participants will receive a letter in the mail by January 1 instructing them to contact the Southeast Regional Office to have an authorization certificate mailed to them or to visit the Southeast Regional Office Web site (http://sero.nmfs.noaa.gov/pr/mm/mmap.htm) to print their own certificate.

Am I required to submit reports when I injure or kill a marine mammal during the course of commercial fishing operations?

In accordance with the MMPA (16 U.S.C. 1387(e)) and 50 CFR 229.6, any vessel owner or operator, or gear owner or operator (in the case of non-vessel fisheries), participating in a fishery listed on the LOF must report to NMFS all incidental injuries and mortalities of marine mammals that occur during commercial fishing operations, regardless of the category in which the fishery is placed (I, II, or III) within 48 hours of the end of the fishing trip. “Injury” is defined in 50 CFR 229.2 as a wound or other physical harm. In addition, any animal that ingests fishing gear or any animal that is released with fishing gear entangling, trailing, or perforating any part of the body is considered injured, regardless of the presence of any wound or other evidence of injury, and must be reported. Injury/mortality reporting forms and instructions for submitting forms to NMFS can be downloaded from: http://www.nmfs.noaa.gov/pr/pdfs/interactions/mmap_reporting_form.pdf or by contacting the appropriate Regional office (see ADDRESSES). Reporting requirements and procedures can be found in 50 CFR 229.6.

Am I required to take an observer aboard my vessel?

Individuals participating in a Category I or II fishery are required to accommodate an observer aboard their vessel(s) upon request from NMFS. MMPA section 118 states that an observer will not be placed on a vessel if the facilities for quartering an observer or performing observer functions are inadequate or unsafe, therefore, vessels too small to accommodate an observer are exempt from this requirement. However, observer requirements will not be exempted, regardless of vessel size, for U.S. Atlantic Ocean, Caribbean, Gulf of Mexico large pelagics longline vessels operating in special areas designated by the Pelagic Longline Take Reduction Plan implementing regulations (50 CFR 229.36(d)). Observer requirements can be found in 50 CFR 229.7.

Am I required to comply with any marine mammal take reduction plan regulations?

Table 4 in this rule provides a list of fisheries affected by TRPs and TRTs. TRP regulations can be found at 50 CFR 229.30 through 229.37. A description of each TRT and copies of each TRP can be found at: http://www.nmfs.noaa.gov/pr/interactions/trt/. It is the responsibility of fishery participants to comply with applicable take reduction regulations.

Where can I find more information about the LOF and the MMAP?

Information regarding the LOF and the Marine Mammal Authorization Program, including registration procedures and forms, current and past LOFs, information on each Category I and II fishery, observer requirements, and marine mammal injury/mortality reporting forms and submittal procedures, may be obtained at: http://www.nmfs.noaa.gov/pr/interactions/lof/, or from any NMFS Regional Office at the addresses listed below:

NMFS, Northeast Region, 55 Great Republic Drive, Gloucester, MA 01930-2298, Attn: Allison Rosner;

NMFS, Southeast Region, 263 13th Avenue South, St. Petersburg, FL 33701, Attn: Jessica Powell;

NMFS, Southwest Region, 501 W. Ocean Blvd., Suite 4200, Long Beach, CA 90802-4213, Attn: Elizabeth Petras;

NMFS, Northwest Region, 7600 Sand Point Way NE., Seattle, WA 98115, Attn: Brent Norberg, Protected Resources Division;

NMFS, Alaska Region, Protected Resources, P.O. Box 22668, 709 West 9th Street, Juneau, AK 99802, Attn: Bridget Mansfield; or

NMFS, Pacific Islands Region, Protected Resources, 1601 Kapiolani Boulevard, Suite 1110, Honolulu, HI 96814, Attn: Nancy Young.

Sources of Information Reviewed for the Final 2013 LOF

NMFS reviewed the marine mammal incidental serious injury and mortality information presented in the SARs for all fisheries to determine whether changes in fishery classification were warranted. The SARs are based on the best scientific information available at the time of preparation, including the level of serious injury and mortality of marine mammals that occurs incidental to commercial fishery operations and the PBR levels of marine mammal stocks. The information contained in the SARs is reviewed by regional Scientific Review Groups (SRGs) representing Alaska, the Pacific (including Hawaii), and the U.S. Atlantic, Gulf of Mexico, and Caribbean. The SRGs were created by the MMPA to review the science that informs the SARs, and to advise NMFS on marine mammal population status, trends, and stock structure, uncertainties in the science, research needs, and other issues.

NMFS also reviewed other sources of new information, including marine mammal stranding data, observer program data, fisher self-reports, reports to the SRGs, conference papers, FMPs, and ESA documents.

The LOF for 2013 was based, among other things, on information provided in the NEPA and ESA documents analyzing authorized high seas fisheries; stranding data; fishermen self-reports through the MMAP; the final SARs for 2006 (72 FR 12774, March 19, 2007), 2007 (73 FR 21111, April 18, 2008), 2008 (74 FR 19530, April 29, 2009), 2009 (75 FR 12498, March 16, 2010), 2010 (76 FR 34054, June 10, 2011), 2011 (77 FR 29969, May 21, 2012); and 2012 (78 FR 19446, April 1, 2013, 78 FR 32377, May 30, 2013). The SARs are available at: http://www.nmfs.noaa.gov/pr/sars/.

Fishery Descriptions

Beginning with the final 2008 LOF (72 FR 66048, November 27, 2007), NMFS describes each Category I and II fishery in the LOF. In each LOF, NMFS describes the fisheries classified as Category I or II that were not classified as such on a previous LOF (and therefore have not yet been described in the LOF). Descriptions of all Category I and II fisheries operating in U.S. waters may be found in the SARs, FMPs, and TRPs, through state agencies, or through the fishery summary documents available on the NMFS Office of Protected Resources Web site (http://www.nmfs.noaa.gov/pr/interactions/lof/.) Additional details for Category I and II fisheries operating on the high seas are included in various FMPs, NEPA, or ESA documents.

The “Alaska Bering Sea and Aleutian Islands rockfish trawl” fishery is reclassified from Category III to Category II. Rockfish species fished include Pacific Ocean perch, northern rockfish, rougheye rockfish, shortraker rockfish, and other rockfish. Fishing effort in this fishery takes place in the U.S. Exclusive Economic Zone of the Eastern Bering Sea and the portion of the North Pacific Ocean adjacent to the Aleutian Islands, which is west of 170°W longitude up to the U.S.-Russian Convention Line of 1867. Pacific Ocean perch in the Aleutian Islands is allocated under the Amendment 80 catch share program to the trawl gear sectors. Northern rockfish, rougheye rockfish, shortraker rockfish, and other rockfish do not have directed fisheries but are caught incidentally in other fisheries. There are currently an estimated 28 vessels licensed in this fishery.

Comments and Responses

NMFS received 10 comment letters on the proposed LOF for 2013 (78 FR 23708, April 22, 2013). Comments were received from the Blue Water Fishermen's Association, Bright Eye Fishing Company, Center for Biological Diversity, Hawaii Longline Association, Marine Mammal Commission, Oceana, Inc., Turtle Island Restoration Network, U.S. Department of the Interior, Western Pacific Regional Fishery Management Council, and one individual. Comments on issues outside the scope of the LOF were noted, but generally without response.

General Comments

Comment 1: An individual commenter requests that NMFS explicitly state what years of data are used in LOF analyses, specifically in the vessels/persons and other tables where dates are not provided, to make the information more clear and useful.

Response: In the preamble, NMFS states the years of the data used in the LOF review. NMFS used the best available data for each stock. In this rule for 2013, we used data from 2006-2010. The majority of data used come from the SARs, which are updated annually. In the SARs, the dates of the data used are stated. Other best available data sources include: Observer data, stranding data, and fisher self-reports. In the vessels/persons tables the most current federal and state commercial fisheries data are used. References to specific data sources are included in the proposed 2013 LOF rule (78 FR 23708, April 22, 2013) “Summary of Changes to the LOF for 2013” section.

Comment 2: The Marine Mammal Commission (Commission) recommends that NMFS work in collaboration with the states to develop reliable methods for estimating the number of participants in fisheries.

Response: As stated in the Final 2012 LOF (76 FR 73912, November 29, 2011), Table 2 represents a description of each fishery including the estimated number of persons/vessels active in the fishery. Currently, a clear measure of effort for all state fisheries has not been determined due to the way some state permits allow for the use of multiple gear types. As stated in the proposed 2013 LOF (78 FR 23708, April 22, 2013), NMFS recognizes that there may be disparity between permit holders listed and actual fishing effort; however, the numbers provided on the LOF are solely used for descriptive purposes and will not be used in determining future management of fisheries, observer coverage designations, or bycatch rates, which are all done through other processes that include public comment periods. Further, NMFS has communicated with the states regarding the need for consistent fishing effort data collection methods across states to better assess fisheries' effects on marine mammal stocks that have interstate distributions. NMFS will continue to communicate this need through TRT processes, LOF yearly inquiries, and the Marine Mammal Authorization Program's (MMAP's) integrated registration process and will work with states to improve the accuracy of these estimated numbers of vessels/persons.

Comment 3: The Center for Biological Diversity (CBD) requests that NMFS not reclassify fisheries to a lower category or remove marine mammals from the list when information on the fishery and its interactions is scant.

Response: As stated in the Final 2012 LOF (76 FR 73912, November 29, 2011), NMFS considers a broad range of information when proposing or making fishery classification decisions on the LOF and does not classify fisheries based solely on the presence or absence of serious injuries or mortalities. Under the implementing regulations for section 118, NMFS uses observer data, logbook data, stranding data, fishers' reports, anecdotal reports, qualitative factors outlined in 50 CFR 229.2 (i.e., fishing techniques, gear used, methods used to deter marine mammals, target species, seasons and areas fished, qualitative data from logbooks or fisher reports, stranding data, and the species and distribution of marine mammals in the area), information on incidental serious injury or mortality to marine mammals reported in SARs (50 CFR 229.2; 60 FR 45086, August 30, 1995; 60 FR 67063, December 28, 1995), and input received during the public comment periods. NMFS considers all of this information to determine whether the fishery can be classified on the LOF based on quantitative information analyzed through the Tier 1 and 2 analyses; or whether the fishery can be classified on the LOF based on the qualitative information outlined in NMFS regulations at 50 CFR 229.2.

Comment 4: The CBD recommends that NMFS be more transparent about the statistical reliability of bycatch estimates. The CBD reiterated an old Commission recommendation that NMFS include observer coverage for each fishery on the List of Fisheries, including Category III fisheries, to allow the reader to assess the adequacy of information on incidental mortality and serious injury to marine mammals. CBD recommends adding a column with observer coverage to the first table in the proposed rule that lists each fishery and the estimated number of participants.

Response: NMFS agrees with CBD's comment referencing the Commission's comment from the Final 2012 LOF (76 FR 73916, November 29, 2011, comment/response 2), that summarizing the information used as the basis to classify each fishery on the LOF in one location could be useful for interested readers. NMFS has posted information on each Category I and II fishery on the LOF on the NMFS Office of Protected Resources Web site (http://www.nmfs.noaa.gov/pr/interactions/lof/), where it can be considered at the readers' discretion. NMFS is developing similar fishery fact sheets for each Category III fishery and anticipates posting those fishery fact sheets along with the final 2015 LOF. However, due to the large number of Category III fisheries on the LOF and the lack of accessible and detailed information on many of these fisheries, this timeline may be revised as this effort progresses.

Comment 5: The CBD opposes the inclusion of aquaculture operations as Category III fisheries and recommends that they be managed under MMPA Section 101(a)(5)(A) through (D) with take prohibitions and permits.

Response: As stated in the Final 2012 LOF (76 FR 73912, November 29, 2011), NMFS works under Section 118 of the MMPA which governs the “taking of marine mammals incidental to commercial fishing operations.” The MMPA does not provide a definition of a commercial fishing operation; therefore, NMFS defined “commercial fishing operation” in regulations at 50 CFR 229.2. The definition was presented in the proposed and final rules implementing the regulations for section 118 of the MMPA (60 FR 31666, June 16, 1995; 60 FR 65086, August 30, 1995). As noted in those proposed and final rules, and in the responses to comments on the 2009, 2010 and 2012 LOFs (73 FR 73032, December 1, 2008, comment/response 5; 74 FR 58859, November 16, 2009, comment/response 11; 76 FR 73916, November 29, 2011, comment/response 3), the definition of a “commercial fishing operation” includes aquaculture. The regulations in 50 CFR 229.2 define a “commercial fishing operation” as “the catching, taking, or harvesting of fish from the marine environment . . . . The term includes . . . aquaculture activities.” Further, “fishing or to fish” is defined as “any commercial fishing operation.” Therefore, aquaculture fisheries are considered commercial fisheries that are managed under section 118 of the MMPA and are therefore included on the annual LOF.

Comment 6: The Commission recommends that NMFS include in the 2014 LOF the estimated fishing effort, number of participants, and sources of the estimates (e.g., number of active participants, number of licensed vessels/persons, number of vessels/persons in previous LOFs, or other).

Response: Section 118 (c)(1) of the Marine Mammal Protection Act states that the Secretary shall include “the approximate number of vessels or persons actively involved in, each such fishery.” Each year NMFS provides updates on the estimated fishery participants as indicated in Table 2. NMFS provides a description of the sources of this information in each proposed rule when changes to the LOF are proposed. NMFS describes why these numbers may reflect potential industry participation and not necessarily active permit holders. Providing additional information on active participants, as requested by the commenter, may be possible for federal and some state permit/license holders. However, it is not currently available for many state fisheries.

NMFS requests state permit holder data from state agencies through the MMAP integrated registration process. At that time, NMFS provides state officials with the MMPA Category I & Category II fishery definitions. State representatives, being experts in their fisheries, then assign their state fisheries to the most appropriate LOF fishery when responding to NMFS's annual request for permit holder information. In some cases, a permit holder may have the potential to use a particular gear type, though they may not be actively participating. NMFS has interpreted Table 2 to represent an estimation of “potential participation” in a fishery, and each year provides specific language that explains that these numbers represent estimates and not actual effort for certain fisheries. NMFS will strive to include the requested additional information of estimated fishing effort, number of participants, and sources of estimates in the fishery fact sheets that are available on the NMFS Office of Protected Resources Web site: http://www.nmfs.noaa.gov/pr/interactions/lof/.

Comments on Commercial Fisheries in the Pacific Ocean

Comment 7: The Commission recommends that NMFS elevate the Hawaii charter and Hawaii trolling, rod and reel fisheries to Category II and initiate observer coverage to obtain data necessary to rigorously assess the risk the fisheries pose to the Hawaii stock of pantropical spotted dolphins. The Commission states that NMFS's conclusions regarding total commercial fishery-related mortality and serious injury of Hawaiian pantropical spotted dolphins are based on a series of observations that are not sufficient to assess the takes from the fisheries. The Commission also disagrees with NMFS's conclusion that, “in the absence of evidence of mortality/serious injury . . . a Category III classification . . . is appropriate,” for it shifts the burden of proof away from fishery management and removes the incentive to collect data needed to characterize the level of take.

Response: NMFS is retaining the Hawaii charter and Hawaii trolling, rod and reel fisheries as Category III fisheries. As described in the proposed rule (78 FR 23708, April 22, 2013), NMFS does not have a quantitative estimate of the number of mortalities and serious injuries of pantropical spotted dolphins in the fisheries. In the absence of that data, consistent with 50 CFR 229.2, NMFS considers other factors to assess the risk to the dolphins, including fishing techniques, gear used, methods used to deter marine mammals, target species, seasons and areas fished, qualitative data, stranding information, and other relevant information on marine mammals. We have evaluated the available information, which is summarized in the proposed rule, and determined that incidental mortalities and serious injuries are likely rare, rather than “occasional”; and, thus, a Category III classification is warranted.

NMFS has the authority to place observers on Category III vessels under certain circumstances and to develop an alternative observer program to collect data on commercial fishing operations via other platforms (e.g., vessels, airplanes, points on shore) (50 CFR 229.7). Although NMFS is not initiating observer coverage for the troll and charter vessel fisheries at this time, we will continue to work with the State of Hawaii and with independent researchers to collect and evaluate information on the interaction between the fisheries and dolphins.

Comment 8: The Western Pacific Regional Fishery Management Council concurs with NMFS that the Hawaii charter and Hawaii trolling, rod and reel fisheries should remain Category III.

Response: NMFS acknowledges this comment and is finalizing the Hawaii charter and Hawaii trolling, rod and reel fisheries' proposed Category III classification.

Comment 9: The CBD opposes the removal of humpback whales (Central North Pacific stock) and Blainville's beaked whales (Hawaiian stock) from the list of species or stocks incidentally killed or injured in Category I Hawaii deep-set longline fishery. The CBD provides three reasons for retaining the species on the list. First, effort in the fishery increased from 2010 to 2011, and interactions with marine mammals will increase with the additional effort. As a result, NMFS should not now remove these species. Second, 20% observer coverage means there is a quantifiable risk that some interactions are unobserved and unreported, especially for the endangered humpback whale, NMFS should consider more than the most recent five years of data before removing a species historically taken by the fishery. Third, excluding marine mammals based solely on a lack of documented injuries or deaths in the most recent 5-year period is inconsistent with NMFS policy and prior practice. For example, NMFS just added Blainville's beaked whales on the 2012 LOF as an acknowledgment of the great uncertainty in identifying species and stocks taken in this fishery outside the U.S. EEZ. Therefore, the removal from the list on the basis of information for the most recent five-year period seems contradictory to what NMFS decided in listing them.

Response: NMFS is removing the two stocks from the list of species and stocks injured or killed in the Category I Hawaii deep-set longline fishery, as proposed. Responses to each of the CBD's three arguments are set forth below.

First, although the number of fishing sets in the Hawaii deep-set longline fishery has increased somewhat from 2010 to 2011 (Pacific Islands Fisheries Science Center, Fisheries Monitoring Branch, 2012), this fact alone does not indicate that there was or will be an increase in marine mammal interactions. The Hawaii deep-set fishery operates under a limited entry system, with the number of vessels remaining relatively constant over the past ten years. NMFS is removing these two marine mammal species/stocks because they have not been observed to be caught in the fishery in the most recent five years of data included in this analysis (2006-2010). NMFS will continue to update the list in future LOFs to reflect the best available data on observed interactions.

Second, in fisheries where observer coverage is inadequate, NMFS may retain species and stocks on the list for longer than five years, on a case-by-case basis. In the Hawaii deep-set longline fishery, NMFS is satisfied that existing observer coverage (20%) is sufficient to detect even rare marine mammal bycatch events, particularly when data are pooled across multiple years. Therefore, NMFS is relying on observer data to inform the list of species injured or killed in the fishery.

Third, NMFS considers these changes to the list of species injured or killed to be consistent with our policy and prior practice. The CBD's discussion of the addition of the Blainville's beaked whale to the list contains factual errors that we clarify below. The Hawaiian stock of Blainville's beaked whale has been included on the list of species injured/killed in the Hawaii deep-set longline fishery since the 2009 LOF (and in the Hawaii longline fishery on the 2006-2008 LOFs before the Hawaii deep- and shallow-set longline fisheries were split). The most recently observed interaction with a Blainville's beaked whale in the deep-set fishery was a non-serious injury on the high seas in 2005. In the 2012 LOF, NMFS added an “unknown” stock of Blainville's beaked whale to the high-seas component of the fishery (Table 3—Western Pacific Pelagic (Hawaii Deep-set component)) to account for the uncertainty in stock (not species) identification on the high seas given that the full offshore ranges of Hawaiian pelagic cetacean stocks are unknown. Accordingly, the addition of this “unknown” stock was meant to account for the inherent uncertainty in identifying whether the animals are from the Hawaiian pelagic stocks or from other high seas stocks and not because of additional observed takes within the time period considered for the 2012 LOF (2005-2009). More recent data indicate there have been no observed interactions with Blainville's beaked whales in the most recent 5-year period (2006-2010); and, thus, the removal of the species (including both the Hawaiian and unknown stocks) is appropriate.

Comment 10: The CBD continues to have concern over NMFS's lack of assessment and analysis of fisheries' impacts on Hawaiian monk seals. The CBD stated that, given the critically endangered status of the monk seal, any interaction is significant and any fishing mortality would qualify a fishery as Category I if NMFS calculated the potential biological removal (PBR) level. Continuing to rely on the fact that the PBR level for monk seals is “undetermined” to justify NMFS's failure to make a quantitative evaluation of incidental mortality and serious injury compared to PBR evades the intent and legal mandates of the MMPA.

Response: NMFS expects that the great majority of fisheries' interactions with Hawaiian monk seals occur in the main Hawaiian Islands (MHI), where coastal and recreational fisheries primarily operate. Currently, NMFS is only able to estimate the minimum number of fisheries' interactions based on opportunistic reporting by the public. Reports about interactions coming directly from fishermen are rare. A majority of those reported interactions are hookings (serious injury). However, notwithstanding these fisheries interactions, NMFS is encouraged that the monk seal population in the MHI continues to increase, with an estimated intrinsic population growth rate of 6.5% per year (Baker et al., 2011).

NMFS is unable to reliably determine whether an interaction (i.e., hooking) occurred in a commercial or recreational fishery, primarily for two reasons. First, when a seal is sighted with a hook, it is often difficult to determine the fishery of origin, even if the hook or other gear is recovered from the animal. Second, many Hawaiian fisheries have both commercial and non-commercial components. As a result, even if the fishery can be identified from the recovered gear, it may be difficult to verify whether the interaction occurred during commercial fishing (and would thus be evaluated on the LOF). This issue will not be resolved without improved information and reporting by fishermen.

NMFS continues to try to improve its data collection, analysis and assessment of fisheries' interactions and their impacts on Hawaiian monk seals. NMFS is currently working with state and private partners to address some of these limitations in data and reporting. Some examples include:

• The NMFS Pacific Islands Fisheries Science Center Hawaiian Monk Seal Research Program (HMSRP) partners with the State of Hawaii to better quantify and describe potential monk seal interactions with fisheries in order to develop mitigation strategies.

• The HMSRP is conducting a community-based research project using National Geographic Crittercams to look at the seals' foraging behavior and fisheries interactions. This project allows fishermen to take part in the research and has a substantial community engagement component educating the fishing community about seals and encouraging reporting.

• The NMFS Pacific Islands Regional Office develops outreach products and messages to inform fishermen about best practices when fishing around monk seals and how to report interactions.

• Several Federal, State, and non-governmental organization liaisons are working with various fishing communities to encourage better reporting of monk seal interactions.

NMFS will continue to work with its state and federal partners and the public to better understand, quantify, and reduce monk seal-fishery interactions.

Comment 11: The Hawaii Longline Association (HLA) argues that the Hawaii-based deep-set longline fishery does not interact with MHI insular false killer whales and opposes including the stock on the list of marine mammals injured or killed in the deep-set fishery.

Response: NMFS determines which species or stocks are included as incidentally killed or injured in a fishery by annually reviewing the information presented in the current SARs, among other relevant sources. The SARs are based on the best available scientific information and provide the most current and inclusive information on each stock, including range, abundance, PBR, and level of interaction with commercial fishing operations. The LOF does not analyze or evaluate the data and calculations contained within the SARs.

The 2012 SAR for false killer whales indicates that an average of 0.5 mortalities or serious injuries of MHI insular false killer whales occur each year incidental to the Hawaii-based deep-set longline fishery (Carretta et al., 2013). Therefore, NMFS is retaining the stock on the list of marine mammal stocks incidentally killed or injured in the Hawaii deep-set longline fishery. For a more complete analysis of the methodology for determining mortality and serious injury of MHI insular false killer whales, the commenter is referred to the 2012 SAR.

Comment 12: The HLA opposes NMFS's inclusion of a number of “unknown” marine mammals stocks on the list of species or stocks injured or killed in the deep-set and shallow-set fisheries and states it is in violation of the MMPA.

Response: The listings of “unknown” stocks are for species that have been observed to have been taken by the Hawaii-based deep-set and shallow-set longline fisheries on the high seas, but for which the stock identity could not be reliably determined. NMFS' SARs for Hawaii pelagic cetacean stocks note that the stocks' ranges extend into the high seas, but the full offshore ranges are unknown. For those animals taken by the longline fisheries on the high seas, NMFS is often unable to determine whether the animals belong to the Hawaii pelagic stocks or other high seas stocks. This is particularly true for takes that occur far outside the U.S. EEZ around the Hawaiian Islands. Therefore, NMFS' inclusion of “unknown” stocks that are known to interact with the longline fisheries on the high seas is necessary to account for uncertainty in stock identification.

Comment 13: The HLA opposes NMFS adding short-finned pilot whales to the list of species injured or killed in the Hawaii shallow-set longline fishery because it is not supported by the available data. The addition is based on a single interaction on the high seas involving an unidentified cetacean that “may have” been a short-finned pilot whale. In the absence of data confirming that the fishery is interacting with short-finned pilot whales, NMFS may not add the species to the list of species or stocks that are incidentally killed or injured by the fishery.

Response: One unidentified cetacean, known to be either a false killer whale or short-finned pilot whale (i.e., a “blackfish”), was observed seriously injured in the shallow-set longline fishery on the high seas in 2008. When the species of a blackfish cannot be positively identified, NMFS prorates the interaction to one species or the other based on distance from shore (McCracken, 2010). Proration of unidentified blackfish takes accounts for uncertainty in the bycatch estimates and until all animals taken can be identified to either species (e.g., photos, tissue samples). This approach constitutes the best available information and ensures that potential impacts to all species and stocks are assessed. Based on this approach, the estimated average annual mortality and serious injury of short-finned pilot whales in the fishery is 0.1 (McCracken, 2011). Therefore, NMFS is adding the short-finned pilot whale to the list of species or stocks that are incidentally killed or injured by the fishery, as proposed.

Comment 14: The HLA concurs with NMFS's proposed removals from the list of species and stocks that interact with the Hawaii-based longline fisheries.

Response: NMFS acknowledges this comment and is finalizing the list of species and stocks interacting with the Hawaii deep- and shallow-set longline fisheries as proposed. As stated in the proposed rule (78 FR 23708, April 22, 2013), the changes reflect the most recent five years of data (2006-2010) on observed marine mammal interactions in the fisheries.

Comment 15: The Turtle Island Restoration Network (TIRN) recommends that NMFS add pygmy killer whales to the list of species/stocks incidentally killed or injured in the Hawaii deep-set longline fishery based on one observed take in the first quarter of 2013.

Response: The 2013 LOF does not yet incorporate the recently observed pygmy killer whale interaction. The observed interaction has not yet been included in any bycatch estimate, and has not yet been evaluated as part of the tier analysis for this fishery. This observed take will be evaluated in a future LOF.

Comment 16: The Commission concurs with NMFS's proposed reclassifications of the Bering Sea Aleutian Islands (BSAI) rockfish trawl fishery from Category III to Category II, the BSAI Pacific cod longline fishery from Category II to Category III, and the Alaska Bering Sea sablefish pot fishery from Category II to Category III.

Response: NMFS acknowledges this comment and is finalizing the fishery reclassifications.

Comment 17: The U.S. Department of the Interior (DOI) concurs with NMFS that the Southwestern Alaska stock of northern sea otter is incidentally taken in the AK Kodiak salmon set gillnet fishery, the South Central Alaska stock of northern sea otter is incidentally taken in the Alaska Prince William Sound salmon drift gillnet fishery, and the Pacific walrus is incidentally taken in the Alaska BSAI flatfish trawl fishery.

Response: NMFS acknowledges this comment and is finalizing the changes to the list of species injury or killed in these fisheries as proposed.

Comment 18: NMFS received four comment letters supporting the reclassification of the CA thresher shark and swordfish drift gillnet fishery. All of the commenters concurred with the proposed elevation to Category I, the addition of the CA/OR/WA stock of sperm whales to the list of species or stocks incidentally killed or injured in this fishery, and that interactions with this stock provide the basis for the elevation in classification.

Response: NMFS acknowledges this comment and is finalizing the CA thresher shark and swordfish drift gillnet fishery reclassification from Category II to Category I.

Comment 19: NMFS received three comment letters about species injured and killed in the CA swordfish and thresher shark drift gillnet fishery. All commenters requested that NMFS add minke whales to the list of species incidentally killed or injured in the CA swordfish and thresher shark drift gillnet fishery. One letter suggested that NMFS consider whether these takes exceeded PBR.

Response: In the proposed 2013 LOF (78 FR 23708, April 22, 2013), NMFS relied on information available through 2010. When the proposed 2013 LOF was drafted, the best available information on the fisheries and marine mammal interactions was through 2010. The available information included assessments of observed interactions and serious injuries as well as extrapolations of the observed interactions of commercial fisheries and marine mammals (Carretta and Enriquez, 2012). A minke whale interaction was observed in the CA swordfish and thresher shark drift gillnet fishery in 2011 (Carretta and Enriquez, 2012). This information, as well as other fishery activities through 2011, will be reviewed and included in the 2014 LOF, as appropriate.

Comment 20: DOI concurs with NMFS that the CA (southern) sea otters be listed as incidentally taken in the CA halibut/white seabass and other species set gillnet fishery. The DOI recommends that NMFS add CA sea otters to CA coonstripe, shrimp, rock crab, tanner crab pot or trap and CA spiny lobster fisheries lists.

Response: NMFS received a similar comment for the proposed 2012 LOF (76 FR 73912, November 29, 2011, comment/response 9) as well as 2011 LOF (75 FR 68475, November 8, 2010) and 2010 LOF (74 FR 58859, November 16, 2009). As described in the response to comments in the final 2012 LOF (76 FR 73912, November 29, 2011) and described in detail in the proposed 2009 LOF (73 FR 33760, June 13, 2008), NMFS conducted an extensive review of all available information on marine mammal interactions with pot/traps gear in 2008. Also in 2008, the U.S. Fish and Wildlife Service (USFWS) completed a stock assessment for southern sea otters. As described in the 2008 SAR and 2009 LOF, there have been four sea otters that are known to have died in pot/trap gear in California and all occurred in 1987 and 1991. The U.S. Geological Survey and California Department of Fish and Game (now California Department of Fish and Wildlife) collaborated on observing finfish traps in California, but did not record any sea otter interactions (Carretta et al., 2009). The USFWS, as part of public comments for the 2012 LOF, submitted a paper by Hatfield et al. (2011), detailing experiments that indicate that sea otters can enter and become entrapped in pots or traps with openings of certain sizes. However, the paper presented no evidence of this occurring during commercial fishing activities off California. The possibility of an interaction is insufficient justification to include southern sea otters on the list of species incidentally injured or killed in the CA coonstripe shrimp, rock crab, tanner crab pot or trap or the CA spiny lobster trap fisheries. Instead, NMFS needs some indication that injuries or mortalities are occurring or have occurred in these fisheries in recent years (e.g., fisher self-reports, observer data, stranding data). If additional information becomes available to indicate that southern sea otters have been injured or killed in CA trap/pot fisheries in recent years, NMFS will consider including this species on the LOF at that time.

Comments on Commercial Fisheries in the Atlantic Ocean, Gulf of Mexico, and Caribbean

Comment 21: The Blue Water Fishermen's Association recommends that NMFS divide the Atlantic Ocean, Caribbean, Gulf of Mexico large pelagics longline fishery for swordfish, tuna, and sharks into three regional fisheries. The Atlantic and Caribbean should be divided at the Georgia/Florida state line into north and south Atlantic regions and the Gulf of Mexico should be a third region.

Response: NMFS disagrees that the Atlantic Ocean, Caribbean, Gulf of Mexico large pelagics longline fishery should be divided into three regions. Gear used throughout the large pelagics longline fishery is relatively the same, and marine mammal stocks have the potential to interact with this gear across all geographic regions. For example, other Southeast fisheries including the Southeastern U.S. Atlantic, Gulf of Mexico stone crab trap/pot fishery; the Atlantic mixed species trap/pot fishery; the Southeastern U.S. Atlantic Gulf of Mexico shrimp trawl fishery; and the Mid-Atlantic gillnet fishery are all grouped together based on similar gear types, despite slight regional differences in fishing techniques or the marine mammal stocks affected. Furthermore, even though the pelagics longline fishery is grouped over geographic regions for LOF purposes, management measures to reduce serious injuries and mortalities of marine mammals for the fishery are already focused on geographic areas where interactions pose a significant risk to specific marine mammal stocks, rather than implementing broad-brush regulations that span over large areas with different variations of interactions.

Comment 22: The Blue Water Fishermen's Association recommends that NMFS support research efforts to better understand depredation by marine mammals on hooked catches, specifically pilot whale interactions.

Response: NMFS agrees with the Blue Water Fishermen's Association that research efforts are important to reduce marine mammal interactions. The LOF does not include any funding mechanisms to support research efforts. However, we are supporting research efforts to better understand how to reduce or prevent serious injuries and mortalities of marine mammals in the Atlantic portion of the pelagic longline fishery. Specifically, we are providing funding through North Carolina Sea Grant for cooperative research between scientists and fishermen to better understand pilot whale interactions with the pelagic longline fishery as described in the Pelagic Longline Take Reduction Plan. In addition, we are supporting two research projects in 2013 to evaluate the potential of weak hooks for reducing serious injury and mortality of marine mammals, while maintaining catch for fishermen.

Comment 23: DOI recommends that NMFS delete the superscript reference about the level of interaction with the Atlantic blue crab trap/pot fishery for the Florida subspecies of the West Indian manatee because it is erroneous. The reference reads, “[F]ishery classified based on serious injuries and mortalities of this stock, which are greater than 50 percent (Category 1) or greater than 1 percent and less than 50 percent (Category II) of the stock' s [potential biological removal] PBR.”

Response: NMFS believes that the footnote regarding the level of interaction between the Atlantic blue crab trap/pot fishery and the Florida subspecies of West Indian manatee is relevant. This reference is included for any stock listed under a fishery that has data showing that serious injuries and mortalities are greater than 1 percent and less than 50 percent (Category II) of the stock's PBR. In NMFS preliminary data, the PBR for the West Indian manatee was 14.98, and three serious injuries were reported in Atlantic blue crab pot gear, 20% of the stock's PBR. Based on this information, NMFS finds the footnote to be accurate and will maintain the footnote reference for the Florida subspecies of manatee.

Comment 24: DOI recommends that NMFS remove the Florida subspecies of the West Indian manatee from the list of species/stocks incidentally killed or injured in the Southeastern U.S. Atlantic, Gulf of Mexico shrimp trawl fishery. DOI is unaware of any manatees taken in this fishery since 1990.

Response: Notwithstanding the record of historic takes and low observer coverage since 1992 (less than 1%), NMFS will remove the Florida subspecies of the West Indian manatee from the list of species/stocks incidentally killed or injured in the Southeastern U.S. Atlantic, Gulf of Mexico shrimp trawl fishery since there have been no recently documented takes. Further, the Georgia Department of Natural Resources and Florida Fish and Wildlife Conservation Commission closely monitor the manatee population, which allows them to detect the majority of dead and injured animals. The last known takes of manatees by trawl gear were in 1997, as presented in the 2009 SAR (74 FR 69136, December 30, 2009). Two takes were reported that year from Georgia waters. One of the takes was lethal; the other was non-lethal. Also, in 1990, the inshore bait shrimp fishery was suggested to cause three unconfirmed manatee mortalities. The manatee carcass salvage and recovery program at the Florida Fish and Wildlife Conservation Commission coordinates carcass salvage to determine the cause of death of every reported dead manatee (up to 400 manatees a year) (Florida Fish and Wildlife Conservation Commission, 2007). In Georgia, the Department of Natural Resources works closely with the state of Florida and U.S. Fish and Wildlife Service to monitor impacts to manatees.

Comment 25: The Commission recommends that NMFS elevate the Atlantic, Gulf of Mexico, Caribbean commercial passenger fishing vessel fishery and all other fisheries that could be responsible for observed takes of bottlenose dolphins from Category III to Category II until NMFS can reliably attribute the takes to a specific fishery(s).

Response: NMFS is currently reviewing all Category III fisheries and associated data. Given the large number of Category III fisheries and the lack of accessible and detailed information on many of these fisheries, including the Atlantic, Gulf of Mexico, Caribbean commercial passenger fishing vessel fishery, NMFS anticipates this review will take some time. As noted in the preamble, fishery fact sheets for all Category III fisheries are expected to be completed with the LOF for 2015, although this timeline may be revised as this effort progresses.

Comment 26: The Commission recommends that NMFS keep the eastern Gulf of Mexico coastal bottlenose dolphin stock on the lists of species or stocks incidentally killed or injured in the Gulf of Mexico gillnet fishery and the Gulf of Mexico menhaden purse seine fishery until five years of adequate observer coverage data show otherwise.

Response: The eastern Gulf of Mexico coastal bottlenose dolphin stock was removed from the Gulf of Mexico gillnet fishery because there is little to no overlap with this fishery. The range of the eastern Gulf of Mexico coastal bottlenose dolphin stock extends off the coast of Florida to the 20 m isobath. Gillnets are prohibited in Florida state waters. In Federal waters on the Gulf side, there are no gillnet fisheries with the exception of a small fishery for king mackerel north of the Marquesas' in the Florida Keys that fishes an average of 5-7 days per year. Because the spatial and temporal overlap of this stock with this fishery is minimal and there are no recorded takes, NMFS removed the Gulf of Mexico coastal bottlenose dolphin stock from this fishery.

NMFS also removed the eastern Gulf of Mexico coastal bottlenose dolphin stock from the Gulf of Mexico menhaden purse seine fishery because there is now minimal overlap between the fishery and the stock's range. Historically, the bait fishery for menhaden occurred along the Florida panhandle and around Tampa Bay, but the fishery was curtailed after the Florida net-ban of 1995 (Gulf States Marine Fisheries Commission, 2010). There is now only a very small fishery for menhaden off the Florida panhandle in Federal waters. No has been documented from that fishery.

Comment 27: The Commission recommends that NMFS keep the Gulf of Mexico oceanic Gervais beaked whale stock on the lists of species or stocks incidentally killed or injured in Atlantic, Caribbean, Gulf of Mexico large pelagics longline fishery until five years of adequate observer coverage data show otherwise.

Response: NMFS will keep the Gulf of Mexico oceanic Gervais beaked whale stock on the list of species incidentally killed or injured by the Atlantic Ocean, Caribbean, Gulf of Mexico large pelagics longline fishery, because there has not been adequate observer coverage data that show otherwise in the five year (2006-2010) data period used in the LOF for 2013 analysis.

Comment 28: The Commission recommends that NMFS keep the northern Gulf of Mexico continental shelf bottlenose dolphin stock on the lists of species or stocks incidentally killed or injured in Atlantic, Caribbean, Gulf of Mexico large pelagics longline fishery until five years of adequate observer coverage data show otherwise.

Response: The Gulf of Mexico continental shelf bottlenose dolphin stock was removed from the Atlantic Ocean, Caribbean, Gulf of Mexico large pelagics longline fishery because there has been adequate observer coverage without any observed takes in the last five years. The Gulf of Mexico portion of the pelagic longline fishery has adequate observer coverage. For example, in 2011, the average observer coverage of total longline sets in the Gulf of Mexico was 17.6% (Garrison and Stokes, 2012). The last reported take potentially from this stock was in 2007. This dolphin was released alive and presumed to have no serious injuries. This animal could have belonged to the continental shelf or oceanic stock.

Comment 29: The Association, Turtle Island Restoration Network, and Bright Eye Fish Company request that NMFS re-evaluate or provide further explanation of the Atlantic Ocean, Caribbean, and Gulf of Mexico large pelagics longline fishery increase of estimated number of vessels/persons from 94 to 420.

Response: NMFS re-evaluated the compiled permit data to ensure all duplicated values were removed. The corrected estimated number of vessels/persons is 234, based on 2012 permit data for all Atlantic tuna longline and incidental and directed swordfish. The value of 234 represents all unique vessels that have one of these permits. Active vessels in a given year may be less than 234, but we list all permitted vessels that have the potential to fish in a given year within the designated pelagic longline fishery.

Comments on Commercial Fisheries on the High Seas

Comment 30: The Turtle Island Restoration Network requests an explanation of why prohibited fishing gears, such as gillnets on the high seas, are listed as active fisheries.

Response: As stated in the preamble supplementary information under header “Are high seas fisheries included on the LOF?” HSFCA permits are valid for five years, during which time FMPs can change. Therefore, some vessels/participants may possess valid HSFCA permits without the ability to fish under the permit because it was issued for a gear type that is no longer authorized under the most current FMP. For this reason, the number of HSFCA permits displayed in Table 3 is likely higher than the actual U.S. fishing effort on the high seas.

Gillnets are an authorized gear type in the List of Authorized Fisheries and Gear in the MSA Provisions (50 CFR 600.725). On the U.S. West Coast, the thresher shark and swordfish fishery is authorized to use drift gillnets. Under the FMP for U.S. West Coast Fisheries for Highly Migratory Species, drift gillnet use is banned during certain seasons in specific portions of the EEZ off of California and Oregon. An HSFCA permit is generally associated with at least one fishery that is authorized by a Fishery Management Plan. As such gill netters are still listed as a vessel type in the HSFCA permit application.

Comment 31: The Association states that the high seas fishing vessel permit holders are already included in the Atlantic, Caribbean, Gulf of Mexico large pelagics longline vessels/persons count, so they have been double-counted in the NMFS estimate of vessels/permits.

Response: As stated in the preamble supplementary information under header “Are high seas fisheries included on the LOF,” many fisheries operate in both U.S. waters and on the high seas, creating some overlap between the fisheries listed in Tables 1 and 2 and those in Table 3. In these cases, the high seas component of the fishery is not considered a separate fishery, but an extension of a fishery operating within U.S. waters (listed in Table 1 or 2). NMFS designates those fisheries in Tables 1, 2, and 3 by a “*” after the fishery's name. The number of HSFCA permits listed in Table 3 for the high seas components of these fisheries operating in U.S. waters does not necessarily represent additional effort that is not accounted for in Tables 1 and 2. Many vessels/participants holding HSFCA permits also fish within U.S. waters and are included in the number of vessels and participants operating within those fisheries in Tables 1 and 2.

Summary of Changes From the Proposed Rule

In this final rule, NMFS updated the “Atlantic Ocean, Caribbean, Gulf of Mexico large pelagics longline” fishery vessels/persons value. The revised, final estimate is 243, down from 420 in the proposed rule.

In this final rule, NMFS added Gervais beaked whales (Gulf of Mexico oceanic) to the list of species or stocks incidentally killed or injured in the “Atlantic Ocean, Caribbean, Gulf of Mexico large pelagics longline” fishery.

In this final rule, NMFS removed West Indian manatee (Florida) from the list of species or stocks incidentally killed or injured in the “Southeastern U.S. Atlantic, Gulf of Mexico trawl” fishery.

Summary of Changes to the LOF for 2013

The following summarizes changes to the LOF for 2013 in fishery classification, the estimated number of vessels/participants in a particular fishery, the species or stocks that are incidentally killed or injured in a particular fishery, and the fisheries that are subject to a take reduction plan. The classifications and definitions of U.S. commercial fisheries for 2013 are identical to those provided in the LOF for 2012 with the changes discussed below. State and regional abbreviations used in the following paragraphs include: AK (Alaska), CA (California), DE (Delaware), FL (Florida), GMX (Gulf of Mexico), HI (Hawaii), MA (Massachusetts), ME (Maine), NC (North Carolina), NY (New York), OR (Oregon), RI (Rhode Island), SC (South Carolina), VA (Virginia), WA (Washington), and WNA (Western North Atlantic).

Commercial Fisheries in the Pacific Ocean

Fishery Classification

NMFS reclassifies the “CA thresher shark/swordfish drift gillnet” fishery from Category II to Category I.

NMFS reclassifies the “Alaska Bering Sea and Aleutian Islands Rockfish trawl” fishery from Category III to Category II.

NMFS reclassifies the “Alaska Bering Sea/Aleutian Islands Pacific cod longline” fishery from Category II to Category III.

NMFS reclassifies the “Alaska Bering Sea sablefish pot fishery” from Category II to Category III.

NMFS determined that the “Hawaii charter vessel” and “Hawaii trolling, rod and reel” fisheries should remain classified as Category III fisheries.

Number of Vessels/Persons

NMFS updates the estimated number of persons/vessels operating in the Pacific Ocean as follows:

Category | Fishery | Estimated number of participants (Final 2012 LOF) | Estimated number of participants (Final 2013 LOF)
I | HI deep-set (tuna target) longline/set line | 124 | 129
I | CA thresher shark/swordfish drift gillnet | 45 | 25
II | AK Bristol Bay Salmon drift gillnet | 1862 | 1863
II | AK Bristol Bay salmon set gillnet | 983 | 982
II | AK Cook Inlet salmon drift gillnet | 571 | 569
II | AK Kodiak salmon purse seine | 370 | 379
II | AK Peninsula/Aleutian Islands salmon set gillnet | 115 | 114
II | AK Yakutat salmon set gillnet | 166 | 167
II | HI shallow-set (swordfish target) longline/set line | 28 | 20
II | American Samoa longline | 26 | 24
II | HI shortline | 13 | 11
II | AK Southeast salmon drift gillnet | 476 | 474
III | AK Bering Sea, Aleutian Islands Pacific cod longline | 54 | 154
III | AK Bering Sea, Aleutian Islands Greenland Turbot longline | 29 | 36
III | AK Kuskokwim, Yukon, Norton Sound, Kotzebue salmon gillnet | 824 | 1702
III | AK roe herring and food/bait herring gillnet | 986 | 990
III | AK roe herring and food/bait purse seine | 361 | 367
III | AK salmon purse seine (excluding salmon purse seine fisheries listed as Category II) | 936 | 935
III | AK salmon troll | 2045 | 2008
III | AK Gulf of Alaska Pacific cod longline | 440 | 107
III | AK halibut longline/set line (State and Federal waters) | 2521 | 2280
III | AK State-managed waters longline/setline (including sablefish, rockfish, lingcod, and miscellaneous finfish) | 1448 | 1323
III | AK miscellaneous finfish otter/beam trawl | 317 | 282
III | AK shrimp otter trawl and beam trawl (statewide and Cook Inlet) | 32 | 33
III | AK statewide miscellaneous finfish pot | 293 | 243
III | AK BSAI crab pot | 297 | 296
III | AK Gulf of Alaska crab pot | 300 | 389
III | AK southeast Alaska crab pot | 433 | 415
III | AK Southeast Alaska shrimp pot | 283 | 274
III | AK shrimp pot, except southeast | 15 | 210
III | AK Octopus/squid pot | 27 | 26
III | AK miscellaneous finfish handline/hand troll and mechanical jig | 445 | 456
III | AK North Pacific halibut handline/hand troll and mechanical jig | 228 | 180
III | AK herring spawn on kelp pound net | 415 | 411
III | AK Southeast herring roe/food/bait pound net | 6 | 4
III | AK urchin and other fish/shellfish | 570 | 521
III | AK North Pacific halibut, AK bottom fish, WA/OR/CA albacore, groundfish, bottom fish, CA halibut non-salmonid troll fisheries | 1,302 (102 AK) | 1,320 (120 AK)
III | HI inshore gillnet | 44 | 36
III | HI opelu/akule net | 16 | 22
III | HI inshore purse seine | 5 | <3
III | HI throw net, cast net | 22 | 29
III | HI hukilau net | 27 | 26
III | HI lobster tangle net | 1 | 0
III | American Samoa tuna troll | <50 | 7
III | HI trolling, rod and reel | 2,191 | 1,560
III | Commonwealth of the Northern Mariana Islands tuna troll | 88 | 40
III | Guam tuna troll | 401 | 432
III | HI kaka line | 24 | 17
III | HI vertical longline | 10 | 9
III | HI crab trap | 5 | 9
III | HI fish trap | 13 | 9
III | HI lobster trap | 1 | <3
III | HI shrimp trap | 2 | 4
III | HI crab net | 5 | 6
III | HI Kona crab loop net | 46 | 48
III | American Samoa bottomfish | <50 | 12
III | Commonwealth of the Northern Mariana Islands bottomfish | <50 | 28
III | Guam bottomfish | 200 | >300
III | HI aku boat, pole, and line | 2 | 3
III | HI Main Hawaiian Islands deep-sea bottomfish handline | 569 | 567
III | HI inshore handline | 416 | 378
III | HI tuna handline | 445 | 459
III | Western Pacific squid jig | 6 | 1
III | HI bullpen trap | 4 | <3
III | HI black coral diving | 1 | <3
III | HI handpick | 61 | 57
III | HI lobster diving | 39 | 29
III | HI spearfishing | 144 | 143

List of Species or Stocks Incidentally Killed or Injured in the Pacific Ocean

NMFS adds sperm whales (CA/OR/WA stock) and bottlenose dolphins (CA/OR/WA offshore stock) to the list of species or stocks incidentally killed or injured in the Category I “CA thresher shark/swordfish drift gillnet” fishery. NMFS, further, adds a superscript “1” after sperm whale (CA/OR/WA stock), indicating that this stock is a driver for the Category I classification of this fishery. NMFS, also, removes the superscript “¹” from the humpback whale (CA/OR/WA stock).

NMFS adds bottlenose dolphins (CA/OR/WA offshore stock) to the list of species or stocks incidentally killed or injured in the Category III “WA/OR/CA groundfish, bottomfish longline/set line” fishery.

NMFS makes several changes to the list of species or stocks incidentally killed or injured in the Category II “HI shallow-set (swordfish target) longline” fishery. NMFS adds short-finned pilot whales (Hawaiian stock), removes Bryde's whales (Hawaiian stock), and adds a superscript “¹” following false killer whale (Hawaii pelagic stock), to indicate the stock is driving the fishery's Category II classification. NMFS removes the superscript “¹” following bottlenose dolphin (Hawaii pelagic stock), to indicate the stock is no longer driving the fishery's Category II classification.

NMFS removes humpback whales (Central North Pacific stock) and Blainville's beaked whales (Hawaiian stock) from the list of species or stocks incidentally killed or injured in the Category I “Hawaii deep-set (tuna target) longline” fishery.

NMFS adds pantropical spotted dolphins (Hawaii stock) to the list of species or stocks incidentally injured or killed in the Category III “Hawaii trolling, rod and reel” and “Hawaii charter vessel” fisheries.

NMFS makes several changes to the list of species or stocks incidentally killed or injured in the Category II “Alaska Bering Sea and Aleutian Islands Flatfish trawl” fishery. NMFS adds gray whales (Eastern North Pacific stock), humpback whales (Western North Pacific stock), killer whales (Gulf of Alaska, Aleutian Islands, and Bering Sea transient stock), and ringed seals (Alaska stock).

NMFS makes several changes to the list of species or stocks incidentally killed or injured in the Category II “Alaska Bering Sea and Aleutian Islands Pollock trawl” fishery. NMFS adds ringed seals (Alaska stock), bearded seals (Alaska stock), and Northern fur seals (Eastern Pacific stock). NMFS removes killer whales (Eastern North Pacific, Gulf of Alaska, Aleutian Islands, and Bering Sea transient stock) and minke whales (Alaska stock).

NMFS makes several changes to the list of species or stocks incidentally injured or killed by the Category III “Alaska Bering Sea and Aleutian Islands Pacific Cod longline” fishery. NMFS adds Northern fur seals (eastern Pacific stock) and Dall's Porpoise (Alaska stock), and removes Steller sea lions (Western United States stock), ribbon seals (Alaska stock), and killer whales (Alaska Resident stock).

NMFS adds Steller sea lions (Western United States stock) to the list of species or stocks incidentally injured or killed by the Category III “Gulf of Alaska Pacific Cod longline” fishery.

NMFS removes Steller sea lions (Eastern United States stock) from the list of species or stocks incidentally injured or killed by the Category III “Gulf of Alaska Sablefish longline” fishery.

NMFS removes Steller sea lions (Eastern United States stock) from the list of species or stocks incidentally injured or killed by the Category III “Alaska Halibut longline” fishery.

NMFS adds ribbon seal (Alaska stock) to the list of species or stocks incidentally injured or killed by the Category III “Atka Mackerel trawl” fishery.

NMFS removes harbor seals (Bering Sea stock) from the list of species or stocks incidentally injured or killed by the Category III “Bering Sea/Aleutian Islands Pacific Cod trawl” fishery.

NMFS removes humpback whales (Western North Pacific stock) and (Central North Pacific stock) from the list of species or stocks incidentally injured or killed by the Category III “Alaska Bering Sea sablefish pot” fishery.

Commercial Fisheries in the Atlantic Ocean, Gulf of Mexico, and Caribbean

Number of Vessels/Persons

NMFS updates the estimated number of vessels/persons in commercial fisheries in the Atlantic Ocean, Gulf of Mexico, and Caribbean.

Category | Fishery | Estimated number of participants (Final 2012 LOF) | Estimated number of participants (Final 2013 LOF)
I | Atlantic Ocean, Caribbean, Gulf of Mexico large pelagic longline | 94 | 420
I | Northeast Sink Gillnet | 3,828 | 4,375
I | Mid Atlantic Gillnet | 6,402 | 5,509
I | Northeast/Mid Atlantic American Lobster Trap/Pot | 11,767 | 11,693
II | North Carolina inshore gillnet | 2,250 | 1,323
II | Southeast Atlantic gillnet | 779 | 357
II | Atlantic blue crab trap/pot | 10,008 | 8,557
II | Northeast Anchored Float Gillnet | 414 | 421
II | Northeast Mid Water Trawl (including pair trawl) | 887 | 1,103
II | Mid Atlantic Mid Water Trawl (including pair trawl and flynet) | 669 | 322
II | Mid Atlantic Beach Haul Seine | 874 | 565
II | Northeast Bottom Trawl | 2,584 | 2,987
II | Virginia Pound Net | 231 | 67
II | Northeast Drift Gillnet | 414 | 311
II | Atlantic Mixed Species Trap/Pot | 3,526 | 3,467
II | Mid Atlantic Bottom Trawl | 1,388 | 631
II | Chesapeake Bay Inshore Gillnet | 3,328 | 1,126
II | Mid Atlantic Menhaden Purse Seine | 56 | 5
III | Atlantic Shellfish Bottom Trawl | >86 | >58
III | Gulf of Maine Atlantic Herring Purse Seine | >6 | >7
III | Northeast, Mid-Atlantic Bottom Longline/Hook & Line | >1,281 | >1,207
III | Gulf of Maine, U.S. Mid-Atlantic Sea Scallop Dredge | >230 | >403
III | Gulf of Maine herring and Atlantic mackerel stop seine/weir | Unknown | >1
III | Gulf of Maine, U.S. Mid-Atlantic tuna, shark swordfish hook-and-line/harpoon | >403 | 428

List of Species or Stocks Incidentally Killed or Injured

NMFS removes bottlenose dolphin (Northern Gulf of Mexico continental shelf stock) from the list of species or stocks incidentally injured or killed in the Category I “Atlantic Ocean, Caribbean, Gulf of Mexico large pelagics longline” fishery.

NMFS removes bottlenose dolphin (Eastern Gulf of Mexico coastal stock) from the list of species or stocks incidentally injured or killed in the Category II “Gulf of Mexico gillnet” fishery.

NMFS removes Atlantic spotted dolphins (Western North Atlantic stock) from the list of species or stocks incidentally injured or killed in the Category II “Southeastern U.S. Atlantic shark gillnet” fishery.

NMFS removes bottlenose dolphins (Eastern Gulf of Mexico coastal stock) from the list of species or stocks incidentally injured or killed in the Category II “Gulf of Mexico menhaden purse seine” fishery.

NMFS removes dwarf sperm whales (Western North Atlantic stock) from the list of species or stocks incidentally injured or killed in the Category III “Caribbean gillnet” fishery.

NMFS adds bottlenose dolphin (Southern South Carolina/Georgia coastal stock) to the list of species or stocks incidentally injured or killed in the Category III “Georgia cannonball jellyfish trawl” fishery.

NMFS adds minke whales (Canadian East Coast stock) to the list of species or stocks incidentally killed or injured in the Category II “Northeast bottom trawl” fishery.

NMFS adds Risso's dolphins (Western North Atlantic stock) to the list of species or stocks incidentally killed or injured in the Category I “Mid-Atlantic gillnet” fishery.

NMFS adds long-finned pilot whales (Western North Atlantic stock) and short-finned pilot whales (Western North Atlantic stock) to the list of species or stocks incidentally killed or injured in the Category I “Northeast sink gillnet” fishery.

NMFS adds common dolphins (Western North Atlantic stock) and gray seals (Western North Atlantic stock) to the list of species or stocks incidentally killed or injured in the Category II “Northeast mid-water trawl” fishery.

NMFS adds gray seals (Western North Atlantic stock) to the list of species stocks incidentally killed or injured in the Category II “Mid-Atlantic bottom trawl” fishery.

Commercial Fisheries on the High Seas

Number of Vessels/Persons

NMFS updates the estimated number of HSFCA permits in multiple high seas fisheries for multiple gear types (Table 3). The updated numbers of HSFCA permits reflect the current number of permits in the NMFS National Permit System database.

Category | High Seas Fishery | Number of HSFCA permits (Final 2012 LOF) | Number of HSFCA permits (Final 2013 LOF)
I | Atlantic Highly Migratory Species Longline | 81 | 79
II | Atlantic HMS Drift Gillnet | 1 | 2
II | Pacific HMS Drift Gillnet | 3 | 4
II | Atlantic HMS Trawl | 3 | 5
II | Western Pacific Pelagic Trawl | 1 | 0
II | South Pacific Tuna Purse Seine | 33 | 38
II | South Pacific Tuna Longline | 11 | 10
II | Pacific HMS Handline/Pole and Line | 30 | 40
II | South Pacific Albacore Handline/Pole and Line | 8 | 7
II | Western Pacific Pelagic Handline/Pole and Line | 8 | 6
II | Atlantic HMS Troll | 7 | 5
II | South Pacific Albacore Troll | 51 | 36
II | Western Pacific Pelagic Troll | 32 | 22
III | Pacific HMS Longline | 84 | 96
III | Pacific HMS Purse Seine | 7 | 6
III | Pacific HMS Troll | 258 | 263

List of Species or Stocks Incidentally Killed or Injured in High Seas Fisheries (Table 3)

NMFS removes humpback whales (Central North Pacific stock) and Blainville's beaked whales (Hawaiian and unknown stocks) from the list of species or stocks incidentally killed or injured in the “Western Pacific Pelagic (HI Deep-set component)” fishery.

NMFS removes Bryde's whales (Hawaiian and unknown stocks) and adds short-finned pilot whales (Hawaiian and unknown stocks) to the list of species or stocks incidentally killed or injured in the “Western Pacific Pelagic (HI Shallow-set component)” fishery.

Fisheries Affected by Take Reduction Teams and Plans

NMFS updates the list of fisheries affected by take reduction teams and plans found in Table 4 of the LOF.

In the Atlantic, Gulf of Mexico, and Caribbean region, two updates are made: The Atlantic portion of the “Southeastern U.S. Atlantic, Gulf of Mexico shrimp trawl fishery” is subject to the Bottlenose Dolphin Take Reduction Plan (BDTRP), and the “Chesapeake Bay inshore gillnet fishery” is also subject to the BDTRP.

In the Pacific Ocean region, NMFS adds “False Killer Whale Take Reduction Plan (FKWTRP)—50 CFR 229.37” to the list of take reduction plans. Affected fisheries include the Category I “Hawaii deep-set (tuna target) longline/set line” and Category II “Hawaii shallow-set (swordfish target) longline/set line” fisheries.

List of Fisheries

The following tables set forth the list of U.S. commercial fisheries according to their classification under section 118 of the MMPA. Table 1 lists commercial fisheries in the Pacific Ocean (including Alaska); Table 2 lists commercial fisheries in the Atlantic Ocean, Gulf of Mexico, and Caribbean; Table 3 lists commercial fisheries on the high seas; and Table 4 lists fisheries affected by TRPs or TRTs.

In Tables 1 and 2, the estimated number of vessels/persons participating in fisheries operating within U.S. waters is expressed in terms of the number of active participants in the fishery, when possible. If this information is not available, the estimated number of vessels or persons licensed for a particular fishery is provided, which represents a measure of potential effort. If no recent information is available on the number of participants, vessels, or persons licensed in a fishery, then the number from the most recent LOF is used for the estimated number of vessels/persons in the fishery. NMFS acknowledges that, in some cases, these estimations may be inflations of actual effort, such as for many of the Mid-Atlantic and New England fisheries. However, in these cases, the numbers represent the potential effort for each fishery, given the multiple gear types several state permits may allow for. Changes made to Mid-Atlantic and New England fishery participants will not affect observer coverage or bycatch estimates as observer coverage and bycatch estimates are based on vessel trip reports and landings data. For additional information on fishing effort in fisheries found on Table 1 or 2, NMFS refers the reader to contact the relevant regional office (contact information included above in SUPPLEMENTARY INFORMATION).

For high seas fisheries, Table 3 lists the number of currently valid HSFCA permits held. Although this likely overestimates the number of active participants in many of these fisheries, the number of valid HSFCA permits is the most reliable data on the potential effort in high seas fisheries at this time.

Tables 1, 2, and 3 also list the marine mammal species or stocks incidentally killed or injured in each fishery based on observer data, logbook data, stranding reports, disentanglement network data, and MMAP reports. This list includes all species or stocks known to be injured or killed in a given fishery but also includes species or stocks for which there are anecdotal records of an injury or mortality. Additionally, species identified by logbook entries, stranding data, or fishermen self-reports (i.e., MMAP reports) may not be verified. In Tables 1 and 2, NMFS has designated those stocks driving a fishery's classification (i.e., the fishery is classified based on serious injuries and mortalities of a marine mammal stock that are greater than 50 percent [Category I], or greater than 1 percent and less than 50 percent [Category II], of a stock's PBR) by a “¹” after the stock's name.

In Tables 1 and 2, there are several fisheries classified as Category II that have no recent documented injuries or mortalities of marine mammals, or fisheries that did not result in a serious injury or mortality rate greater than 1 percent of a stock's PBR level based on known interactions. NMFS has classified these fisheries by analogy to other Category I or II fisheries that use similar fishing techniques or gear that are known to cause mortality or serious injury of marine mammals, as discussed in the final LOF for 1996 (60 FR 67063, December 28, 1995), and according to factors listed in the definition of a “Category II fishery” in 50 CFR 229.2 (i.e., fishing techniques, gear used, methods used to deter marine mammals, target species, seasons and areas fished, qualitative data from logbooks or fisher reports, stranding data, and the species and distribution of marine mammals in the area). NMFS has designated those fisheries listed by analogy in Tables 1 and 2 by a “²” after the fishery's name.

There are several fisheries in Tables 1, 2, and 3 in which a portion of the fishing vessels cross the EEZ boundary and therefore operate both within U.S. waters and on the high seas. These fisheries, though listed separately between Table 1 or 2 and Table 3, are considered the same fishery on either side of the EEZ boundary. NMFS has designated those fisheries in each table by a “*” after the fishery's name.

Table 1—List of Fisheries—Commercial Fisheries in the Pacific Ocean
Fishery description | Estimated # of vessels/persons | Marine mammal species and stocks incidentally killed or injured
Category I
LONGLINE/SET LINE FISHERIES:
HI deep-set (tuna target) longline/set line *^ | 129 | Bottlenose dolphin, HI Pelagic
|  | False killer whale, HI Insular ¹
|  | False killer whale, HI Pelagic ¹
|  | False killer whale, Palmyra Atoll
|  | Pantropical spotted dolphin, HI
|  | Risso's dolphin, HI
|  | Short-finned pilot whale, HI
|  | Striped dolphin, HI
GILLNET FISHERIES:
CA thresher shark/swordfish drift gillnet (≥14 in mesh) * | 25 | Bottlenose dolphin, CA/OR/WA offshore
|  | California sea lion, U.S.
|  | Humpback whale, CA/OR/WA
|  | Long-beaked common dolphin, CA
|  | Northern elephant seal, CA breeding
|  | Northern right-whale dolphin, CA/OR/WA
|  | Pacific white-sided dolphin, CA/OR/WA
|  | Risso's dolphin, CA/OR/WA
|  | Short-beaked common dolphin, CA/OR/WA
|  | Sperm whale, CA/OR/WA ¹
Category II
GILLNET FISHERIES:
CA halibut/white seabass and other species set gillnet (>3.5 in mesh) | 50 | California sea lion, U.S.
|  | Harbor seal, CA
|  | Humpback whale, CA/OR/WA ¹
|  | Long-beaked common dolphin, CA
|  | Northern elephant seal, CA breeding
|  | Sea otter, CA
|  | Short-beaked common dolphin, CA/OR/WA
CA yellowtail, barracuda, and white seabass drift gillnet (mesh size ≥3.5 in and <14 in) ² | 30 | California sea lion, U.S.
|  | Long-beaked common dolphin, CA
|  | Short-beaked common dolphin, CA/OR/WA
AK Bristol Bay salmon drift gillnet ² | 1,863 | Beluga whale, Bristol Bay
|  | Gray whale, Eastern North Pacific
|  | Harbor seal, Bering Sea
|  | Northern fur seal, Eastern Pacific
|  | Pacific white-sided dolphin, North Pacific
|  | Spotted seal, AK
|  | Steller sea lion, Western U.S.
AK Bristol Bay salmon set gillnet ² | 982 | Beluga whale, Bristol Bay
|  | Gray whale, Eastern North Pacific
|  | Harbor seal, Bering Sea
|  | Northern fur seal, Eastern Pacific
|  | Spotted seal, AK
AK Kodiak salmon set gillnet | 188 | Harbor porpoise, GOA ¹
|  | Harbor seal, GOA
|  | Sea otter, Southwest AK
|  | Steller sea lion, Western U.S.
AK Cook Inlet salmon set gillnet | 738 | Beluga whale, Cook Inlet
|  | Dall's porpoise, AK
|  | Harbor porpoise, GOA
|  | Harbor seal, GOA
|  | Humpback whale, Central North Pacific ¹
|  | Steller sea lion, Western U.S.
AK Cook Inlet salmon drift gillnet | 569 | Beluga whale, Cook Inlet
|  | Dall's porpoise, AK
|  | Harbor porpoise, GOA ¹
|  | Harbor seal, GOA
|  | Steller sea lion, Western U.S.
AK Peninsula/Aleutian Islands salmon drift gillnet ² | 162 | Dall's porpoise, AK
|  | Harbor porpoise, GOA
|  | Harbor seal, GOA
|  | Northern fur seal, Eastern Pacific
AK Peninsula/Aleutian Islands salmon set gillnet ² | 114 | Harbor porpoise, Bering Sea
|  | Steller sea lion, Western U.S.
AK Prince William Sound salmon drift gillnet | 537 | Dall's porpoise, AK
|  | Harbor porpoise, GOA ¹
|  | Harbor seal, GOA
|  | Northern fur seal, Eastern Pacific
|  | Pacific white-sided dolphin, North Pacific
|  | Sea otter, South Central AK
|  | Steller sea lion, Western U.S. ¹
AK Southeast salmon drift gillnet | 474 | Dall's porpoise, AK
|  | Harbor porpoise, Southeast AK
|  | Harbor seal, Southeast AK
|  | Humpback whale, Central North Pacific ¹
|  | Pacific white-sided dolphin, North Pacific
|  | Steller sea lion, Eastern U.S.
AK Yakutat salmon set gillnet ² | 167 | Gray whale, Eastern North Pacific
|  | Harbor porpoise, Southeastern AK
|  | Harbor seal, Southeast AK
|  | Humpback whale, Central North Pacific (Southeast AK)
WA Puget Sound Region salmon drift gillnet (includes all inland waters south of US-Canada border and eastward of the Bonilla-Tatoosh line-Treaty Indian fishing is excluded) | 210 | Dall's porpoise, CA/OR/WA
|  | Harbor porpoise, inland WA ¹
|  | Harbor seal, WA inland
PURSE SEINE FISHERIES:
AK Cook Inlet salmon purse seine | 82 | Humpback whale, Central North Pacific ¹
AK Kodiak salmon purse seine | 379 | Humpback whale, Central North Pacific ¹
TRAWL FISHERIES:
AK Bering Sea, Aleutian Islands flatfish trawl | 34 | Bearded seal, AK
|  | Gray whale, Eastern North Pacific
|  | Harbor porpoise, Bering Sea
|  | Harbor seal, Bering Sea
|  | Humpback whale, Western North Pacific ¹
|  | Killer whale, AK resident ¹
|  | Killer whale, GOA, AI, BS transient ¹
|  | Northern fur seal, Eastern Pacific
|  | Ringed seal, AK
|  | Ribbon seal, AK
|  | Spotted seal, AK
|  | Steller sea lion, Western U.S. ¹
|  | Walrus, AK
AK Bering Sea, Aleutian Islands pollock trawl | 95 | Bearded seal, AK
|  | Dall's porpoise, AK
|  | Harbor seal, AK
|  | Humpback whale, Central North Pacific
|  | Humpback whale, Western North Pacific
|  | Northern fur seal, Eastern Pacific
|  | Ribbon seal, AK
|  | Ringed seal, AK
|  | Spotted seal, AK
|  | Steller sea lion, Western U.S. ¹
Bering Sea, Aleutian Islands rockfish trawl | 28 | Killer whale, ENP AK resident ¹
|  | Killer whale, GOA, AI, BS transient ¹
POT, RING NET, AND TRAP FISHERIES:
CA spot prawn pot | 27 | Gray whale, Eastern North Pacific
|  | Humpback whale, CA/OR/WA ¹
CA Dungeness crab pot | 534 | Gray whale, Eastern North Pacific
|  | Humpback whale, CA/OR/WA ¹
OR Dungeness crab pot | 433 | Gray whale, Eastern North Pacific
|  | Humpback whale, CA/OR/WA ¹
WA/OR/CA sablefish pot | 309 | Humpback whale, CA/OR/WA ¹
WA coastal Dungeness crab pot/trap | 228 | Gray whale, Eastern North Pacific
|  | Humpback whale, CA/OR/WA ¹
LONGLINE/SET LINE FISHERIES:
HI shallow-set (swordfish target) longline/set line *^ | 20 | Bottlenose dolphin, HI Pelagic
|  | False killer whale, HI Pelagic ¹
|  | Humpback whale, Central North Pacific
|  | Kogia sp. whale (Pygmy or dwarf sperm whale), HI
|  | Risso's dolphin, HI
|  | Short-finned pilot whale, HI
|  | Striped dolphin, HI
American Samoa longline ² | 24 | False killer whale, American Samoa
|  | Rough-toothed dolphin, American Samoa
HI shortline ² | 11 | None documented
Category III
GILLNET FISHERIES:
AK Kuskokwim, Yukon, Norton Sound, Kotzebue salmon gillnet | 1702 | Harbor porpoise, Bering Sea
AK miscellaneous finfish set gillnet | 3 | Steller sea lion, Western U.S.
AK Prince William Sound salmon set gillnet | 30 | Harbor seal, GOA
|  | Steller sea lion, Western U.S.
AK roe herring and food/bait herring gillnet | 990 | None documented
CA set gillnet (mesh size <3.5 in) | 304 | None documented
HI inshore gillnet | 36 | Bottlenose dolphin, HI
|  | Spinner dolphin, HI
WA Grays Harbor salmon drift gillnet (excluding treaty Tribal fishing) | 24 | Harbor seal, OR/WA coast
WA/OR herring, smelt, shad, sturgeon, bottom fish, mullet, perch, rockfish gillnet | 913 | None documented
WA/OR lower Columbia River (includes tributaries) drift gillnet | 110 | California sea lion, U.S.
|  | Harbor seal, OR/WA coast
WA Willapa Bay drift gillnet | 82 | Harbor seal, OR/WA coast
|  | Northern elephant seal, CA breeding
PURSE SEINE, BEACH SEINE, ROUND HAUL, THROW NET AND TANGLE NET FISHERIES:
AK Southeast salmon purse seine | 415 | None documented in the most recent 5 years of data
AK Metlakatla salmon purse seine | 10 | None documented
AK miscellaneous finfish beach seine | 1 | None documented
AK miscellaneous finfish purse seine | 2 | None documented
AK octopus/squid purse seine | 0 | None documented
AK roe herring and food/bait herring beach seine | 6 | None documented
AK roe herring and food/bait herring purse seine | 367 | None documented
AK salmon beach seine | 31 | None documented
AK salmon purse seine (excluding salmon purse seine fisheries listed as Category II) | 935 | Harbor seal, GOA
CA anchovy, mackerel, sardine purse seine | 65 | California sea lion, U.S.
|  | Harbor seal, CA
CA squid purse seine | 80 | Long-beaked common dolphin, CA Short-beaked common dolphin, CA/OR/WA
CA tuna purse seine * | 10 | None documented
WA/OR sardine purse seine | 42 | None documented
WA (all species) beach seine or drag seine | 235 | None documented
WA/OR herring, smelt, squid purse seine or lampara | 130 | None documented
WA salmon purse seine | 440 | None documented
WA salmon reef net | 53 | None documented
HI opelu/akule net | 22 | None documented
HI inshore purse seine | <3 | None documented
HI throw net, cast net | 29 | None documented
HI hukilau net | 26 | None documented
HI lobster tangle net | 0 | None documented
DIP NET FISHERIES:
CA squid dip net | 115 | None documented
WA/OR smelt, herring dip net | 119 | None documented
MARINE AQUACULTURE FISHERIES:
CA marine shellfish aquaculture | unknown | None documented
CA salmon enhancement rearing pen | >1 | None documented
CA white seabass enhancement net pens | 13 | California sea lion, U.S.
HI offshore pen culture | 2 | None documented
OR salmon ranch | 1 | None documented
WA/OR salmon net pens | 14 | California sea lion, U.S. Harbor seal, WA inland waters
TROLL FISHERIES:
AK North Pacific halibut, AK bottom fish, WA/OR/CA albacore, groundfish, bottom fish, CA halibut non-salmonid troll fisheries * | 1,320 (120 AK) | None documented
AK salmon troll | 2,008 | Steller sea lion, Eastern U.S. Steller sea lion, Western U.S.
American Samoa tuna troll | 7 | None documented
CA/OR/WA salmon troll | 4,300 | None documented
HI trolling, rod and reel | 1,560 | Pantropical spotted dolphin, HI
Commonwealth of the Northern Mariana Islands tuna troll | 40 | None documented
Guam tuna troll | 432 | None documented
LONGLINE/SET LINE FISHERIES:
AK Bering Sea, Aleutian Islands Pacific cod longline | 154 | Dall's Porpoise, AK Northern fur seal, Eastern Pacific
AK Bering Sea, Aleutian Islands rockfish longline | 0 | None documented
AK Bering Sea, Aleutian Islands Greenland turbot longline | 36 | Killer whale, AK resident
AK Bering Sea, Aleutian Islands sablefish longline | 28 | None documented
AK Gulf of Alaska halibut longline | 1,302 | None documented
AK Gulf of Alaska Pacific cod longline | 107 | Steller sea lion, Western U.S.
AK Gulf of Alaska rockfish longline | 0 | None documented
AK Gulf of Alaska sablefish longline | 291 | Sperm whale, North Pacific
AK halibut longline/set line (State and Federal waters) | 2,280 | None documented in the most recent 5 years of data
AK octopus/squid longline | 2 | None documented
AK State-managed waters longline/setline (including sablefish, rockfish, lingcod, and miscellaneous finfish) | 1,323 | None documented
WA/OR/CA groundfish, bottomfish longline/set line | 367 | Bottlenose dolphin, CA/OR/WA offshore
WA/OR North Pacific halibut longline/set line | 350 | None documented
CA pelagic longline | 6 | None documented in the most recent 5 years of data
HI kaka line | 17 | None documented
HI vertical longline | 9 | None documented
TRAWL FISHERIES:
AK Bering Sea, Aleutian Islands Atka mackerel trawl | 9 | Ribbon seal, AK Steller sea lion, Western U.S.
AK Bering Sea, Aleutian Islands Pacific cod trawl | 93 | Steller sea lion, Western U.S.
AK Gulf of Alaska flatfish trawl | 41 | Northern elephant seal, NP
AK Gulf of Alaska Pacific cod trawl | 62 | Steller sea lion, Western U.S.
AK Gulf of Alaska pollock trawl | 62 | Dall's porpoise, AK
|  | Fin whale, Northeast Pacific
|  | Northern elephant seal, North Pacific
|  | Steller sea lion, Western U.S.
AK Gulf of Alaska rockfish trawl | 34 | None documented
AK food/bait herring trawl | 4 | None documented
AK miscellaneous finfish otter/beam trawl | 282 | None documented
AK shrimp otter trawl and beam trawl (statewide and Cook Inlet) | 33 | None documented
AK State-managed waters of Cook Inlet, Kachemak Bay, Prince William Sound, Southeast AK groundfish trawl | 2 | None documented
CA halibut bottom trawl | 53 | None documented
WA/OR/CA shrimp trawl | 300 | None documented
WA/OR/CA groundfish trawl | 160-180 | California sea lion, U.S.
|  | Dall's porpoise, CA/OR/WA
|  | Harbor seal, OR/WA coast
|  | Northern fur seal, Eastern Pacific
|  | Pacific white-sided dolphin, CA/OR/WA
|  | Steller sea lion, Eastern U.S.
POT, RING NET, AND TRAP FISHERIES:
AK statewide miscellaneous finfish pot | 243 | None documented
AK Aleutian Islands sablefish pot | 8 | None documented
AK Bering Sea, Aleutian Islands Pacific cod pot | 68 | None documented
AK Bering Sea, Aleutian Islands crab pot | 296 | None documented
AK Bering Sea sablefish pot | 6 | None documented
AK Gulf of Alaska crab pot | 389 | None documented
AK Gulf of Alaska Pacific cod pot | 154 | Harbor seal, GOA
AK Southeast Alaska crab pot | 415 | Humpback whale, Central North Pacific (Southeast AK)
AK Southeast Alaska shrimp pot | 274 | Humpback whale, Central North Pacific (Southeast AK)
AK shrimp pot, except Southeast | 210 | None documented
AK octopus/squid pot | 26 | None documented
AK snail pot | 1 | None documented
CA coonstripe shrimp, rock crab, tanner crab pot or trap | 305 | Gray whale, Eastern North Pacific
|  | Harbor seal, CA
CA spiny lobster | 225 | Gray whale, Eastern North Pacific
OR/CA hagfish pot or trap | 54 | None documented
WA/OR shrimp pot/trap | 254 | None documented
WA Puget Sound Dungeness crab pot/trap | 249 | None documented
HI crab trap | 9 | None documented
HI fish trap | 9 | None documented
HI lobster trap | <3 | Hawaiian monk seal
HI shrimp trap | 4 | None documented
HI crab net | 6 | None documented
HI Kona crab loop net | 48 | None documented
HANDLINE AND JIG FISHERIES:
AK miscellaneous finfish handline/hand troll and mechanical jig | 456 | None documented
AK North Pacific halibut handline/hand troll and mechanical jig | 180 | None documented
AK octopus/squid handline | 0 | None documented
American Samoa bottomfish | 12 | None documented
Commonwealth of the Northern Mariana Islands bottomfish | 28 | None documented
Guam bottomfish | >300 | None documented
HI aku boat, pole, and line | 3 | None documented
HI Main Hawaiian Islands deep-sea bottomfish handline | 567 | Hawaiian monk seal
HI inshore handline | 378 | None documented
HI tuna handline | 459 | None documented
WA groundfish, bottomfish jig | 679 | None documented
Western Pacific squid jig | <3 | None documented
HARPOON FISHERIES:
CA swordfish harpoon | 30 | None documented
POUND NET/WEIR FISHERIES:
AK herring spawn on kelp pound net | 411 | None documented
AK Southeast herring roe/food/bait pound net | 4 | None documented
WA herring brush weir | 1 | None documented
HI bullpen trap | <3 | None documented
BAIT PENS:
WA/OR/CA bait pens | 13 | California sea lion, U.S.
DREDGE FISHERIES:
Coastwide scallop dredge | 108 (12 AK) | None documented
DIVE, HAND/MECHANICAL COLLECTION FISHERIES:
AK abalone | 0 | None documented
AK clam | 156 | None documented
WA herring spawn on kelp | 4 | None documented
AK Dungeness crab | 2 | None documented
AK herring spawn on kelp | 266 | None documented
AK urchin and other fish/shellfish | 521 | None documented
CA abalone | 0 | None documented
CA sea urchin | 583 | None documented
HI black coral diving | <3 | None documented
HI fish pond | 16 | None documented
HI handpick | 57 | None documented
HI lobster diving | 29 | None documented
HI spearfishing | 143 | None documented
WA/CA kelp | 4 | None documented
WA/OR sea urchin, other clam, octopus, oyster, sea cucumber, scallop, ghost shrimp hand, dive, or mechanical collection | 637 | None documented
WA shellfish aquaculture | 684 | None documented
COMMERCIAL PASSENGER FISHING VESSEL (CHARTER BOAT) FISHERIES:
AK/WA/OR/CA commercial passenger fishing vessel | >7,000 (2,702 AK) | Killer whale, stock unknown
|  | Steller sea lion, Eastern U.S.
|  | Steller sea lion, Western U.S.
HI charter vessel | 114 | Pantropical spotted dolphin, HI
LIVE FINFISH/SHELLFISH FISHERIES:
CA nearshore finfish live trap/hook-and-line | 93 | None documented
List of Abbreviations and Symbols Used in Table 1: AK—Alaska; CA—California; GOA—Gulf of Alaska; HI—Hawaii; OR—Oregon; WA—Washington; ¹ Fishery classified based on serious injuries and mortalities of this stock, which are greater than 50 percent (Category I) or greater than 1 percent and less than 50 percent (Category II) of the stock's PBR; ² Fishery classified by analogy; * Fishery has an associated high seas component listed in Table 3; ^ The list of marine mammal species or stocks killed or injured in this fishery is identical to the list of species or stocks killed or injured in high seas component of the fishery, minus species or stocks have geographic ranges exclusively on the high seas. The species or stocks are found, and the fishery remains the same, on both sides of the EEZ boundary. Therefore, the EEZ components of these fisheries pose the same risk to marine mammals as the components operating on the high seas.^

Table 2—List of Fisheries—Commercial Fisheries in the Atlantic Ocean, Gulf of Mexico, and Caribbean
Fishery description | Estimated # of vessels/persons | Marine mammal species and stocks incidentally killed or injured
Category I
GILLNET FISHERIES:
Mid-Atlantic gillnet | 5,509 | Bottlenose dolphin, Northern Migratory coastal ¹
|  | Bottlenose dolphin, Southern Migratory coastal ¹
|  | Bottlenose dolphin, Northern NC estuarine system ¹
|  | Bottlenose dolphin, Southern NC estuarine system ¹
|  | Bottlenose dolphin, WNA offshore
|  | Common dolphin, WNA
|  | Gray seal, WNA
|  | Harbor porpoise, GME/BF
|  | Harbor seal, WNA
|  | Harp seal, WNA
|  | Humpback whale, Gulf of Maine
|  | Long-finned pilot whale, WNA
|  | Minke whale, Canadian east coast
|  | Risso's dolphin, WNA
|  | Short-finned pilot whale, WNA
|  | White-sided dolphin, WNA
Northeast sink gillnet | 4,375 | Bottlenose dolphin, WNA offshore
|  | Common dolphin, WNA
|  | Fin whale, WNA
|  | Gray seal, WNA
|  | Harbor porpoise, GME/BF ¹
|  | Harbor seal, WNA
|  | Harp seal, WNA
|  | Hooded seal, WNA
|  | Humpback whale, Gulf of Maine
|  | Long-finned Pilot whale, WNA
|  | Minke whale, Canadian east coast
|  | North Atlantic right whale, WNA
|  | Risso's dolphin, WNA
|  | Short-finned Pilot whale, WNA
|  | White-sided dolphin, WNA
TRAP/POT FISHERIES:
Northeast/Mid-Atlantic American lobster trap/pot | 11,693 | Harbor seal, WNA
|  | Humpback whale, Gulf of Maine
|  | Minke whale, Canadian east coast
|  | North Atlantic right whale, WNA ¹
LONGLINE FISHERIES:
Atlantic Ocean, Caribbean, Gulf of Mexico large pelagics longline* | 234 | Atlantic spotted dolphin, GMX continental and oceanic
|  | Atlantic spotted dolphin, WNA
|  | Bottlenose dolphin, Northern GMX oceanic
|  | Bottlenose dolphin, WNA offshore
|  | Common dolphin, WNA
|  | Cuvier's beaked whale, WNA
|  | Gervais beaked whale, GMX oceanic
|  | Killer whale, GMX oceanic
|  | Long-finned pilot whale, WNA ¹
|  | Mesoplodon beaked whale, WNA
|  | Northern bottlenose whale, WNA
|  | Pantropical spotted dolphin, Northern GMX
|  | Pantropical spotted dolphin, WNA
|  | Risso's dolphin, Northern GMX
|  | Risso's dolphin, WNA
|  | Short-finned pilot whale, Northern GMX
|  | Short-finned pilot whale, WNA ¹
|  | Sperm whale, GMX oceanic
Category II
GILLNET FISHERIES:
Chesapeake Bay inshore gillnet ² | 1,126 | None documented in the most recent 5 years of data
Gulf of Mexico gillnet ² | 724 | Bottlenose dolphin, GMX bay, sound, and estuarine
|  | Bottlenose dolphin, Northern GMX coastal
|  | Bottlenose dolphin, Western GMX coastal
NC inshore gillnet | 1,323 | Bottlenose dolphin, Northern NC estuarine system ¹
|  | Bottlenose dolphin, Southern NC estuarine system ¹
Northeast anchored float gillnet ² | 421 | Harbor seal, WNA
|  | Humpback whale, Gulf of Maine
|  | White-sided dolphin, WNA
Northeast drift gillnet ² | 311 | None documented
Southeast Atlantic gillnet ² | 357 | Bottlenose dolphin, Southern Migratory coastal
|  | Bottlenose dolphin, SC/GA coastal
|  | Bottlenose dolphin, Central FL coastal
|  | Bottlenose dolphin, Northern FL coastal
Southeastern U.S. Atlantic shark gillnet | 30 | Bottlenose dolphin, Central FL coastal ¹
|  | Bottlenose dolphin, Northern FL coastal
|  | North Atlantic right whale, WNA
TRAWL FISHERIES:
Mid-Atlantic mid-water trawl (including pair trawl) | 322 | Bottlenose dolphin, WNA offshore
|  | Common dolphin, WNA
|  | Long-finned pilot whale, WNA
|  | Risso's dolphin, WNA
|  | Short-finned pilot whale, WNA
|  | White-sided dolphin, WNA ¹
Mid-Atlantic bottom trawl | 631 | Bottlenose dolphin, WNA offshore
|  | Common dolphin, WNA ¹
|  | Gray seal, WNA
|  | Harbor seal, WNA
|  | Long-finned pilot whale, WNA ¹
|  | Risso's dolphin, WNA ¹
|  | Short-finned pilot whale, WNA ¹
|  | White-sided dolphin, WNA
Northeast mid-water trawl (including pair trawl) | 1,103 | Gray seal, WNA
|  | Harbor seal, WNA
|  | Long-finned pilot whale, WNA ¹
|  | Short-finned pilot whale, WNA ¹
|  | Common dolphin, WNA
|  | White-sided dolphin, WNA
Northeast bottom trawl | 2,987 | Bottlenose dolphin, WNA offshore
|  | Common dolphin, WNA
|  | Gray seal, WNA
|  | Harbor porpoise, GME/BF
|  | Harbor seal, WNA
|  | Harp seal, WNA
|  | Long-finned pilot whale, WNA
|  | Minke whale, Canadian East Coast
|  | Short-finned pilot whale, WNA
|  | White-sided dolphin, WNA ¹
Southeastern U.S. Atlantic, Gulf of Mexico shrimp trawl | 4,950 | Atlantic spotted dolphin, GMX continental and oceanic
|  | Bottlenose dolphin, SC/GA coastal ¹
|  | Bottlenose dolphin, Eastern GMX coastal ¹
|  | Bottlenose dolphin, GMX continental shelf
|  | Bottlenose dolphin, Northern GMX coastal
|  | Bottlenose dolphin, Western GMX coastal ¹
|  | Bottlenose dolphin, GMX bay, sound, estuarine ¹
TRAP/POT FISHERIES:
Southeastern U.S. Atlantic, Gulf of Mexico stone crab trap/pot ² | 1,282 | Bottlenose dolphin, Biscayne Bay estuarine
|  | Bottlenose dolphin, Central FL coastal
|  | Bottlenose dolphin, Eastern GMX coastal
|  | Bottlenose dolphin, FL Bay
|  | Bottlenose dolphin, GMX bay, sound, estuarine (FL west coast portion)
|  | Bottlenose dolphin, Indian River Lagoon estuarine system
|  | Bottlenose dolphin, Jacksonville estuarine system
|  | Bottlenose dolphin, Northern GMX coastal
Atlantic mixed species trap/pot ² | 3,467 | Fin whale, WNA
|  | Humpback whale, Gulf of Maine
Atlantic blue crab trap/pot | 8,557 | Bottlenose dolphin, Charleston estuarine system ¹
|  | Bottlenose dolphin, Indian River Lagoon estuarine system ¹
|  | Bottlenose dolphin, Jacksonville estuarine system ¹
|  | Bottlenose dolphin, SC/GA coastal ¹
|  | Bottlenose dolphin, Northern GA/Southern SC estuarine system ¹
|  | Bottlenose dolphin, Southern GA estuarine system ¹
|  | Bottlenose dolphin, Northern Migratory coastal ¹
|  | Bottlenose dolphin, Southern Migratory coastal ¹
|  | Bottlenose dolphin, Central FL coastal ¹
|  | Bottlenose dolphin, Northern FL coastal ¹
|  | Bottlenose dolphin, Northern NC estuarine system ¹
|  | Bottlenose dolphin, Southern NC estuarine system ¹
|  | West Indian manatee, FL ¹
PURSE SEINE FISHERIES:
Gulf of Mexico menhaden purse seine | 40-42 | Bottlenose dolphin, GMX bay, sound, estuarine
|  | Bottlenose dolphin, Northern GMX coastal ¹
|  | Bottlenose dolphin, Western GMX coastal ¹
Mid-Atlantic menhaden purse seine ² | 5 | Bottlenose dolphin, Northern Migratory coastal
|  | Bottlenose dolphin, Southern Migratory coastal
HAUL/BEACH SEINE FISHERIES:
Mid-Atlantic haul/beach seine | 565 | Bottlenose dolphin, Northern NC estuarine system ¹
|  | Bottlenose dolphin, Northern Migratory coastal ¹
|  | Bottlenose dolphin, Southern Migratory coastal ¹
NC long haul seine | 372 | Bottlenose dolphin, Southern NC estuarine system
|  | Bottlenose dolphin, Northern NC estuarine system ¹
STOP NET FISHERIES:
NC roe mullet stop net | 13 | Bottlenose dolphin, Southern NC estuarine system ¹
POUND NET FISHERIES:
VA pound net | 67 | Bottlenose dolphin, Northern NC estuarine system
|  | Bottlenose dolphin, Northern Migratory coastal ¹
|  | Bottlenose dolphin, Southern Migratory coastal ¹
Category III
GILLNET FISHERIES:
Caribbean gillnet | >991 | None documented in the most recent 5 years of data
DE River inshore gillnet | unknown | None documented in the most recent 5 years of data
Long Island Sound inshore gillnet | unknown | None documented in the most recent 5 years of data
RI, southern MA (to Monomoy Island), and NY Bight (Raritan and Lower NY Bays) inshore gillnet | unknown | None documented in the most recent 5 years of data
Southeast Atlantic inshore gillnet | unknown | None documented
TRAWL FISHERIES:
Atlantic shellfish bottom trawl | >58 | None documented
Gulf of Mexico butterfish trawl | 2 | Bottlenose dolphin, Northern GMX oceanic
|  | Bottlenose dolphin, Northern GMX continental shelf
Gulf of Mexico mixed species trawl | 20 | None documented
GA cannonball jellyfish trawl | 1 | Bottlenose dolphin, South Carolina/Georgia
MARINE AQUACULTURE FISHERIES:
Finfish aquaculture | 48 | Harbor seal, WNA
Shellfish aquaculture | unknown | None documented
PURSE SEINE FISHERIES:
Gulf of Maine Atlantic herring purse seine | >7 | Harbor seal, WNA
|  | Gray seal, WNA
Gulf of Maine menhaden purse seine | >2 | None documented
FL West Coast sardine purse seine | 10 | Bottlenose dolphin, Eastern GMX coastal
U.S. Atlantic tuna purse seine * | 5 | Long-finned pilot whale, WNA
|  | Short-finned pilot whale, WNA
LONGLINE/HOOK-AND-LINE FISHERIES:
Northeast/Mid-Atlantic bottom longline/hook-and-line | >1,207 | None documented
Gulf of Maine, U.S. Mid-Atlantic tuna, shark swordfish hook-and-line/harpoon | 428 | Humpback whale, Gulf of Maine
Southeastern U.S. Atlantic, Gulf of Mexico, and Caribbean snapper-grouper and other reef fish bottom longline/hook-and-line | >5,000 | Bottlenose dolphin, GMX continental shelf
Southeastern U.S. Atlantic, Gulf of Mexico shark bottom longline/hook-and-line | <125 | Bottlenose dolphin, Eastern GMX coastal
|  | Bottlenose dolphin, Northern GMX continental shelf
Southeastern U.S. Atlantic, Gulf of Mexico, and Caribbean pelagic hook-and-line/harpoon | 1,446 | None documented
U.S. Atlantic, Gulf of Mexico trotline | unknown | None documented
TRAP/POT FISHERIES:
Caribbean mixed species trap/pot | >501 | None documented
Caribbean spiny lobster trap/pot | >197 | None documented
FL spiny lobster trap/pot | 1,268 | Bottlenose dolphin, Biscayne Bay estuarine Bottlenose dolphin, Central FL coastal
|  | Bottlenose dolphin, Eastern GMX coastal
|  | Bottlenose dolphin, FL Bay estuarine
Gulf of Mexico blue crab trap/pot | 4,113 | Bottlenose dolphin, Western GMX coastal
|  | Bottlenose dolphin, Northern GMX coastal
|  | Bottlenose dolphin, Eastern GMX coastal
|  | Bottlenose dolphin, GMX bay, sound, estuarine
|  | West Indian manatee, FL
Gulf of Mexico mixed species trap/pot | unknown | None documented
Southeastern U.S. Atlantic, Gulf of Mexico golden crab trap/pot | 10 | None documented
U.S. Mid-Atlantic eel trap/pot | unknown | None documented
STOP SEINE/WEIR/POUND NET/FLOATING TRAP FISHERIES:
Gulf of Maine herring and Atlantic mackerel stop seine/weir | >1 | Gray seal, WNA
|  | Harbor porpoise, GME/BF
|  | Harbor seal, WNA
|  | Minke whale, Canadian east coast
|  | White-sided dolphin, WNA
U.S. Mid-Atlantic crab stop seine/weir | 2,600 | None documented
U.S. Mid-Atlantic mixed species stop seine/weir/pound net (except the NC roe mullet stop net) | unknown | Bottlenose dolphin, Northern NC estuarine system
RI floating trap | 9 | None documented
DREDGE FISHERIES:
Gulf of Maine mussel dredge | unknown | None documented
Gulf of Maine, U.S. Mid-Atlantic sea scallop dredge | >403 | None documented
U.S. Mid-Atlantic/Gulf of Mexico oyster dredge | 7,000 | None documented
U.S. Mid-Atlantic offshore surf clam and quahog dredge | unknown | None documented
HAUL/BEACH SEINE FISHERIES:
Caribbean haul/beach seine | 15 | None documented in the most recent 5 years of data
Gulf of Mexico haul/beach seine | unknown | None documented
Southeastern U.S. Atlantic haul/beach seine | 25 | None documented
DIVE, HAND/MECHANICAL COLLECTION FISHERIES:
Atlantic Ocean, Gulf of Mexico, Caribbean shellfish dive, hand/mechanical collection | 20,000 | None documented
Gulf of Maine urchin dive, hand/mechanical collection | unknown | None documented
Gulf of Mexico, Southeast Atlantic, Mid-Atlantic, and Caribbean cast net | unknown | None documented
COMMERCIAL PASSENGER FISHING VESSEL (CHARTER BOAT) FISHERIES:
Atlantic Ocean, Gulf of Mexico, Caribbean commercial passenger fishing vessel | 4,000 | Bottlenose dolphin, Eastern GMX coastal
|  | Bottlenose dolphin, Northern GMX coastal
|  | Bottlenose dolphin, Western GMX coastal
|  | Bottlenose dolphin, Biscayne Bay estuarine
|  | Bottlenose dolphin, GMX bay, sound, estuarine
|  | Bottlenose dolphin, Indian River Lagoon estuarine system
|  | Bottlenose dolphin, Southern NC estuarine system
List of Abbreviations and Symbols Used in Table 2: DE—Delaware; FL—Florida; GA—Georgia; GME/BF—Gulf of Maine/Bay of Fundy; GMX—Gulf of Mexico; MA—Massachusetts; NC—North Carolina; SC- South Carolina; VA—Virginia; WNA—Western North Atlantic; ¹ Fishery classified based on serious injuries and mortalities of this stock, which are greater than 50 percent (Category I) or greater than 1 percent and less than 50 percent (Category II) of the stock's PBR; ² Fishery classified by analogy; * Fishery has an associated high seas component listed in Table 3.

Table 3—List of Fisheries—Commercial Fisheries on the High Seas
Fishery description | # of HSFCA permits | Marine mammal species and stocks incidentally killed or injured
Category I
LONGLINE FISHERIES:
Atlantic Highly Migratory Species * + | 79 | Atlantic spotted dolphin, WNA
|  | Bottlenose dolphin, Northern GMX oceanic
|  | Bottlenose dolphin, WNA offshore
|  | Common dolphin, WNA
|  | Cuvier's beaked whale, WNA
|  | Long-finned pilot whale, WNA
|  | Mesoplodon beaked whale, WNA
|  | Pygmy sperm whale, WNA
|  | Risso's dolphin, WNA
|  | Short-finned pilot whale, WNA
Western Pacific Pelagic (HI Deep-set component) *^ + | 124 | Bottlenose dolphin, HI Pelagic
|  | Bottlenose dolphin, unknown
|  | False killer whale, HI Pelagic
|  | False killer whale, unknown
|  | Pantropical spotted dolphin, HI
|  | Pantropical spotted dolphin, unknown
|  | Risso's dolphin, HI
|  | Risso's dolphin, unknown
|  | Short-finned pilot whale, HI
|  | Short-finned pilot whale, unknown
|  | Striped dolphin, HI
|  | Striped dolphin, unknown
Category II
DRIFT GILLNET FISHERIES:
Atlantic Highly Migratory Species | 2 | Undetermined
Pacific Highly Migratory Species *^ | 4 | Long-beaked common dolphin, CA
|  | Humpback whale, CA/OR/WA
|  | Northern right-whale dolphin, CA/OR/WA
|  | Pacific white-sided dolphin, CA/OR/WA
|  | Risso's dolphin, CA/OR/WA
|  | Short-beaked common dolphin, CA/OR/WA
TRAWL FISHERIES:
Atlantic Highly Migratory Species ** | 5 | Undetermined
CCAMLR | 0 | Antarctic fur seal
Western Pacific Pelagic | 0 | Undetermined
PURSE SEINE FISHERIES:
South Pacific Tuna Fisheries | 38 | Undetermined
Western Pacific Pelagic | 3 | Undetermined
POT VESSEL FISHERIES:
Pacific Highly Migratory Species ** | 3 | Undetermined
South Pacific Albacore Troll | 3 | Undetermined
Western Pacific Pelagic | 3 | Undetermined
LONGLINE FISHERIES:
CCAMLR | 0 | None documented
South Pacific Albacore Troll | 11 | Undetermined
South Pacific Tuna Fisheries ** | 10 | Undetermined
Western Pacific Pelagic (HI Shallow-set component) *^ + | 28 | Bottlenose dolphin, HI Pelagic
|  | Bottlenose dolphin, unknown
|  | Humpback whale, Central North Pacific
|  | Kogia sp. whale (Pygmy or dwarf sperm whale), HI
|  | Kogia sp. whale (Pygmy or dwarf sperm whale), unknown
|  | Risso's dolphin, HI
|  | Risso's dolphin, unknown
|  | Short-finned pilot whale, HI
|  | Short-finned pilot whale, unknown
|  | Striped dolphin, HI
|  | Striped dolphin, unknown
HANDLINE/POLE AND LINE FISHERIES:
Atlantic Highly Migratory Species | 3 | Undetermined
Pacific Highly Migratory Species | 40 | Undetermined
South Pacific Albacore Troll | 7 | Undetermined
Western Pacific Pelagic | 6 | Undetermined
TROLL FISHERIES:
Atlantic Highly Migratory Species | 5 | Undetermined
South Pacific Albacore Troll | 36 | Undetermined
South Pacific Tuna Fisheries ** | 3 | Undetermined
Western Pacific Pelagic | 22 | Undetermined
LINERS NEI FISHERIES:
Pacific Highly Migratory Species ** | 1 | Undetermined
South Pacific Albacore Troll | 1 | Undetermined
Western Pacific Pelagic | 1 | Undetermined
FACTORY MOTHERSHIP FISHERIES:
Western Pacific Pelagic | 1 | Undetermined
MULTIPURPOSE VESSELS NEI FISHERIES:
Atlantic Highly Migratory Species | 1 | Undetermined
Pacific Highly Migratory Species ** | 5 | Undetermined
South Pacific Albacore Troll | 4 | Undetermined
Western Pacific Pelagic | 4 | Undetermined
Category III
LONGLINE FISHERIES:
Pacific Highly Migratory Species * + | 96 | None documented in the most recent 5 years of data
PURSE SEINE FISHERIES
Atlantic Highly Migratory Species *^ | 0 | Long-finned pilot whale, WNA
|  | Short-finned pilot whale, WNA
Pacific Highly Migratory Species * ^ | 6 | None documented
TROLL FISHERIES:
Pacific Highly Migratory Species * | 263 | None documented
List of Terms, Abbreviations, and Symbols Used in Table 3:
GMX—Gulf of Mexico; NEI—Not Elsewhere Identified; WNA—Western North Atlantic.
* Fishery is an extension/component of an existing fishery operating within U.S. waters listed in Table 1 or 2. The number of permits listed in Table 3 represents only the number of permits for the high seas component of the fishery.
** These gear types are not authorized under the Pacific HMS FMP (2004), the Atlantic HMS FMP (2006), or without a South Pacific Tuna Treaty license (in the case of the South Pacific Tuna fisheries). Because HSFCA permits are valid for five years, permits obtained in past years exist in the HSFCA permit database for gear types that are now unauthorized. Therefore, while HSFCA permits exist for these gear types, it does not represent effort. In order to land fish species, fishers must be using an authorized gear type. Once these permits for unauthorized gear types expire, the permit-holder will be required to obtain a permit for an authorized gear type.
+ The marine mammal species or stocks listed as killed or injured in this fishery has been observed taken by this fishery on the high seas.
^ The list of marine mammal species or stocks killed or injured in this fishery is identical to the list of marine mammal species or stocks killed or injured in U.S. waters component of the fishery, minus species or stocks that have geographic ranges exclusively in coastal waters, because the marine mammal species or stocks are also found on the high seas and the fishery remains the same on both sides of the EEZ boundary. Therefore, the high seas components of these fisheries pose the same risk to marine mammals as the components of these fisheries operating in U.S. waters.

Table 4—Fisheries Affected by Take Reduction Teams and Plans
Take reduction plans | Affected fisheries
Atlantic Large Whale Take Reduction Plan (ALWTRP)—50 CFR 229.32 | Category I Mid-Atlantic gillnet
| Northeast/Mid-Atlantic American lobster trap/pot
| Northeast sink gillnet
| Category II
| Atlantic blue crab trap/pot
| Atlantic mixed species trap/pot
| Northeast anchored float gillnet
| Northeast drift gillnet
| Southeast Atlantic gillnet
| Southeastern U.S. Atlantic shark gillnet *
| Southeastern, U.S. Atlantic, Gulf of Mexico stone crab trap/pot ^
Bottlenose Dolphin Take Reduction Plan (BDTRP)—50 CFR 229.35 | Category I Mid-Atlantic gillnet
| Category II
| Atlantic blue crab trap/pot
| Chesapeake Bay inshore gillnet fishery
| Mid-Atlantic haul/beach seine
| Mid-Atlantic menhaden purse seine
| NC inshore gillnet
| NC long haul seine
| NC roe mullet stop net
| Southeast Atlantic gillnet
| Southeastern U.S. Atlantic shark gillnet
| Southeastern U.S. Atlantic, Gulf of Mexico shrimp trawl ^
| Southeastern, U.S. Atlantic, Gulf of Mexico stone crab trap/pot ^
| VA pound net
False Killer Whale Take Reduction Plan (FKWTRP)—50 CFR 229.37 | Category I HI deep-set (tuna target) longline/set line
| Category II HI shallow-set (swordfish target) longline/set line
Harbor Porpoise Take Reduction Plan (HPTRP)—50 CFR 229.33 (New England) and 229.34 (Mid-Atlantic) | Category I Mid-Atlantic gillnet Northeast sink gillnet
Pelagic Longline Take Reduction Plan (PLTRP)—50 CFR 229.36 | Category I Atlantic Ocean, Caribbean, Gulf of Mexico large pelagics longline
Pacific Offshore Cetacean Take Reduction Plan (POCTRP)—50 CFR 229.31 | Category II CA thresher shark/swordfish drift gillnet (≥14 in mesh)
Atlantic Trawl Gear Take Reduction Team (ATGTRT) | Category II Mid-Atlantic bottom trawl
| Mid-Atlantic mid-water trawl (including pair trawl)
| Northeast bottom trawl
| Northeast mid-water trawl (including pair trawl)
False Killer Whale Take Reduction Team (FKWTRT) | Category I HI deep-set (tuna target) longline/set line
| Category II HI shallow-set (swordfish target) longline/set line
* Only applicable to the portion of the fishery operating in U.S. waters; ^ Only applicable to the portion of the fishery operating in the Atlantic Ocean;

Classification

The Chief Counsel for Regulation of the Department of Commerce certified to the Chief Counsel for Advocacy of the Small Business Administration at the proposed rule state that this rule would not have a significant economic impact on a substantial number of small entities. No comments were received on that certification and no new information has been discovered to change that conclusion. Accordingly, no regulatory flexibility analysis is required and none has been prepared.

This rule contains collection-of-information requirements subject to the Paperwork Reduction Act. The collection of information for the registration of individuals under the MMPA has been approved by the Office of Management and Budget (OMB) under OMB control number 0648-0293 (0.15 hours per report for new registrants and 0.09 hours per report for renewals). The requirement for reporting marine mammal injuries or mortalities has been approved by OMB under OMB control number 0648-0292 (0.15 hours per report). These estimates include the time for reviewing instructions, searching existing data sources, gathering and maintaining the data needed, and completing and reviewing the collection of information. Send comments regarding these reporting burden estimates or any other aspect of the collections of information, including suggestions for reducing burden, to NMFS and OMB (see ADDRESSES and SUPPLEMENTARY INFORMATION).

Notwithstanding any other provision of law, no person is required to respond to nor shall a person be subject to a penalty for failure to comply with a collection of information subject to the requirements of the Paperwork Reduction Act unless that collection of information displays a currently valid OMB control number.

This rule has been determined to be not significant for the purposes of Executive Order 12866.

An environmental assessment (EA) was prepared under the National Environmental Policy Act (NEPA) for regulations to implement section 118 of the MMPA in June 1995. NMFS revised that EA relative to classifying U.S. commercial fisheries on the LOF in December 2005. Both the 1995 EA and the 2005 EA concluded that implementation of MMPA section 118 regulations would not have a significant impact on the human environment. This rule would not make any significant change in the management of reclassified fisheries; therefore, this rule is not expected to change the analysis or conclusion of the 2005 EA. The Council of Environmental Quality (CEQ) recommends agencies review EAs every five years; therefore, NMFS reviewed the 2005 EA in 2009. NMFS concluded that, because there have been no changes to the process used to develop the LOF and implement section 118 of the MMPA (including no new alternatives and no additional or new impacts on the human environment), there is no need to update the 2005 EA at this time. If NMFS takes a management action, for example, through the development of a TRP, NMFS would first prepare an environmental document, as required under NEPA, specific to that action.

This rule would not affect species listed as threatened or endangered under the Endangered Species Act (ESA) or their associated critical habitat. The impacts of numerous fisheries have been analyzed in various biological opinions, and this rule will not affect the conclusions of those opinions. The classification of fisheries on the LOF is not considered to be a management action that would adversely affect threatened or endangered species. If NMFS takes a management action, for example, through the development of a TRP, NMFS would conduct consultation under ESA section 7 for that action.

This rule would have no adverse impacts on marine mammals and may have a positive impact on marine mammals by improving knowledge of marine mammals and the fisheries interacting with marine mammals through information collected from observer programs, stranding and sighting data, or take reduction teams.

This rule would not affect the land or water uses or natural resources of the coastal zone, as specified under section 307 of the Coastal Zone Management Act.

References

Baker, J.D., A.L. Harting, T.A. Wurth, and T.C. Johanos. 2011. Dramatic shifts in Hawaiian monk seal distribution predicted from divergent regional trends. Marine Mammal Science 27: 78-93.

Carretta, J.V. and L. Enriquez. 2012. Marine mammal and seabird bycatch in California gillnet fisheries in 2010. NOAA SWFSC and SWR Administrative Report LJ-12-01. 15p.

Carretta, J.V., K.A. Forney, M.S. Lowry, J. Barlow, J. Baker, D. Johnston, B. Hanson, M.M. Muto, D. Lynch, L. Carswell. 2009. U.S. Pacific Marine Mammal Stock Assessments: 2008. NOAA Technical Memorandum NOAA-TM-NMFS-SWFSC-434. 340p.

Carretta, J.V., E. Oleson, D.W. Weller, A.R. Lang, K.A. Forney, J. Baker, B. Hanson, K Martien, M.M. Muto, M.S. Lowry, J. Barlow, D. Lynch, L. Carswell, R.L. Brownell Jr., D.K. Mattila, and M.C. Hill. 2012. U.S. Pacific Marine Mammal Stock Assessments: 2012. NOAA Technical Memorandum NOAA-TM-NMFS-SWFSC-504. 378p.

Florida Fish and Wildlife Conservation Commission. 2007. Florida Manatee Management Plan. Available at: http://myfwc.com/media/214332/manatee_mgmt_plan.pdf.

Garrison, L.P. and L. Stokes. 2012 Estimated bycatch of marine mammals and sea turtles in the U.S. Atlantic pelagic longline fleet during 2011. NOAA Technical Memorandum NOAA NMFS-SEFSC-632. 61 p.

Gulf States Marine Fisheries Commission. 2010. Bait Fishery. Available at: http://menhaden.gsfmc.org/2010/%20Bait%20Fishery.shtm.

Hatfield B.B, J.A. Ames, J.A. Estes, M.T. Tinker, A.B. Johnson, M.M Staedler, M.D. Harris. 2011. Sea otter mortality in fish and shellfish traps: estimating potential impacts and exploring possible solutions. Endangered Species Research. 13: 219-229.

McCracken, M.L. 2010. Adjustments to false killer whale and short-finned pilot whale bycatch estimates. PIFSC Working Paper WP-10-007. Pacific Islands Fisheries Science Center, National Marine Fisheries Service. 23p.

McCracken, M.L. 2011. Assessment of incidental interactions with marine mammals in the Hawaii longline deep and shallow set fisheries from 2006 through 2010. PIFSC Working Paper WP-11-012. Pacific Islands Fisheries Science Center, National Marine Fisheries Service. 30p.

Pacific Islands Fisheries Science Center, Fisheries Monitoring Branch. 2012. The Hawaii-based longline logbook summary report, January-December 2011. NMFS, Pacific Islands Fisheries Science Center Data report DR-12-003. 14p.

Dated: August 22, 2013.
Alan D. Risenhoover,
Director, Office of Sustainable Fisheries, performing the functions and duties of the Deputy Assistant Administrator for Regulatory Programs, National Marine Fisheries Service.

[FR Doc. 2013-21054 Filed 8-28-13; 8:45 am]

BILLING CODE 3510-22-P